DEPARTMENT OF TRANSPORTATION

Federal Aviation Administration

14 CFR Parts 13 and 406

Office of the Secretary

14 CFR Part 383

Great Lakes St. Lawrence Seaway Development Corporation

33 CFR Part 401

Maritime Administration

46 CFR Parts 221, 307, 340, and 356

Pipeline and Hazardous Materials Safety Administration

49 CFR Parts 107, 171, and 190

Federal Railroad Administration

49 CFR Parts 209, 213, 214, 215, 216, 217, 218, 219, 220, 221, 222, 223, 224, 225, 227, 228, 229, 230, 231, 233, 234, 235, 236, 237, 238, 239, 240, 241, 242, 243, 244, and 272

Federal Motor Carrier Safety Administration

49 CFR Part 386

National Highway Traffic Safety Administration

49 CFR Part 578

RIN 2105-AF16

Revisions to Civil Penalty Amounts, 2024

AGENCY: Department of Transportation (DOT or the Department).

ACTION: Final rule.

SUMMARY: This final rule provides the statutorily prescribed 2024 adjustment to civil penalty amounts that may be imposed for violations of certain DOT regulations.

DATES: This rule is effective December 28, 2023.

FOR FURTHER INFORMATION CONTACT: Elizabeth Kohl, Attorney-Advisor, Office of the General Counsel, U.S. Department of Transportation, 1200 New Jersey Ave. SE, Washington, DC 20590, 202-366-7253; elizabeth.kohl@dot.gov.

SUPPLEMENTARY INFORMATION:

Authority for This Rulemaking

This rule implements the Federal Civil Penalties Inflation Adjustment Act of 1990 (FCPIAA), Public Law 101-410, as amended by the Federal Civil Penalties Inflation Adjustment Act Improvements Act of 2015 (2015 Act), Public Law 114-74, 129 Stat. 599, codified at 28 U.S.C. 2461 note. The FCPIAA and the 2015 Act require Federal agencies to adjust minimum and maximum civil penalty amounts to preserve their deterrent impact. The 2015 Act amended the formula and frequency of the adjustments. It required an initial catch-up adjustment in the form of an interim final rule, followed by annual adjustments of civil penalty amounts using a statutorily mandated formula. Section 4(b)(2) of the 2015 Act specifically directs that the annual adjustment be accomplished through final rule without notice and comment. This rule is effective immediately.

The Department's authorities over the specific civil penalty regulations being amended by this rule are provided in the preamble discussion below.

I. Background

On November 2, 2015, the President signed into law the 2015 Act, which amended the FCPIAA, to improve the effectiveness of civil monetary penalties and to maintain their deterrent effect. The 2015 Act requires Federal agencies to: (1) adjust the level of civil monetary penalties with an initial “catch-up” adjustment through an interim final rule (IFR); and (2) make subsequent annual adjustments.

The 2015 Act directed the Office of Management and Budget (OMB) to issue guidance on implementing the required annual adjustment no later than December 15 of each year.¹ OMB released this required guidance in OMB Memorandum M-24-07, available at https://www.whitehouse.gov/omb/information-for-agencies/memoranda/, which provides instructions on how to calculate the 2024 annual adjustment. To derive the 2024 adjustment, the Department must multiply the maximum or minimum penalty amount by the percent change between the October 2023 Consumer Price Index for All Urban Consumers (CPI-U) and the October 2022 CPI-U. In this case, as explained in OMB Memorandum M-24-07 the percent change between the October 2023 CPI-U and the October 2022 CPI-U is 1.03241.²

¹ 28 U.S.C. 2461 note.

² Agencies may calculate the percent change using the CPI-U numbers, which are typically issued in November each year, and confirm their calculations upon issuance of the annual OMB guidance.

II. Issuance of a Final Rule

This final rule is being published without notice and comment and with an immediate effective date. The 2015 Act provides clear direction for how to adjust the civil penalties, and clearly states at section 4(b)(2) that this adjustment shall be made “notwithstanding section 553 of title 5, United States Code.” By operation of the 2015 Act, DOT must publish an annual adjustment by January 15 of every year, and the new levels take effect upon publication of the rule. Accordingly, DOT is publishing this final rule without prior notice and comment, and with an immediate effective date.

III. Discussion of the Final Rule

In 2016, OST and DOT's operating administrations with civil monetary penalties promulgated the “catch up” IFR required by the 2015 Act. All DOT operating administrations have already finalized their “catch up” IFRs, and this rule makes the annual adjustment required by the 2015 Act.

The Department emphasizes that this rule adjusts penalties prospectively, and therefore the penalty adjustments made by this rule will apply only to violations that take place after this rule becomes effective. This rule also does not change previously assessed or enforced penalties that DOT is actively collecting or has collected.

A. Office of the Secretary (OST) 2024 Adjustments

OST's 2024 civil penalty adjustments are summarized in the chart below.

Description | Citation | Existing penalty | New penalty (existing penalty × 1.03241)
General civil penalty for violations of certain aviation economic regulations and statutes | 49 U.S.C. 46301(a)(1) | $40,272 | $41,577
General civil penalty for violations of certain aviation economic regulations and statutes involving an individual or small business concern | 49 U.S.C. 46301(a)(1) | 1,771 | 1,828
Civil penalties for individuals or small businesses for violations of most provisions of Chapter 401 of Title 49, including the anti-discrimination provisions of sections 40127 and 41705 and rules and orders issued pursuant to these provisions | 49 U.S.C. 46301(a)(5)(A) | 16,108 | 16,630
Civil penalties for individuals or small businesses for violations of 49 U.S.C. 41719 and rules and orders issued pursuant to that provision | 49 U.S.C. 46301(a)(5)(C) | 8,054 | 8,315
Civil penalties for individuals or small businesses for violations of 49 U.S.C. 41712 or consumer protection rules and orders issued pursuant to that provision | 49 U.S.C. 46301(a)(5)(D) | 4,028 | 4,159

B. Federal Aviation Administration (FAA) 2024 Adjustments

FAA's 2024 civil penalty adjustments are summarized in the chart below.

Description | Citation | Existing penalty | New penalty (existing penalty × 1.03241)
Violation of hazardous materials transportation law | 49 U.S.C. 5123(a)(1) | $96,624 | $99,756
Violation of hazardous materials transportation law resulting in death, serious illness, severe injury, or substantial property destruction | 49 U.S.C. 5123(a)(2) | 225,455 | 232,762
Minimum penalty for violation of hazardous materials transportation law relating to training | 49 U.S.C. 5123(a)(3) | 582 | 601
Maximum penalty for violation of hazardous materials transportation law relating to training | 49 U.S.C. 5123(a)(3) | 96,624 | 99,756
Knowing presentation of a nonconforming aircraft for issuance of an initial airworthiness certificate by a production certificate holder | 49 U.S.C. 44704(d)(3)(B) | 1,144,489 | 1,181,582
Knowing failure by an applicant for or holder of a type certificate to submit safety critical information or include certain such information in an airplane flight manual or flight crew operating manual contrary to 49 U.S.C. 44704(e)(1)-(3) | 49 U.S.C. 44704(e)(4)(A) | 1,144,489 | 1,181,582
Operation of an unmanned aircraft or unmanned aircraft system equipped or armed with a dangerous weapon | 49 U.S.C. 44802 note | 29,462 | 30,417
Violation by a person other than an individual or small business concern under 49 U.S.C. 46301(a)(1)(A) or (B) | 49 U.S.C. 46301(a)(1) | 40,272 | 41,577
Violation by an airman serving as an airman under 49 U.S.C. 46301(a)(1)(A) or (B) (but not covered by 46301(a)(5)(A) or (B)) | 49 U.S.C. 46301(a)(1) | 1,771 | 1,828
Violation by an individual or small business concern under 49 U.S.C. 46301(a)(1)(A) or (B) (but not covered in 49 U.S.C. 46301(a)(5)) | 49 U.S.C. 46301(a)(1) | 1,771 | 1,828
Violation by an individual or small business concern (except an airman serving as an airman) under 49 U.S.C. 46301(a)(5)(A)(i) or (ii) | 49 U.S.C. 46301(a)(5)(A) | 16,108 | 16,630
Violation by an individual or small business concern related to the transportation of hazardous materials | 49 U.S.C. 46301(a)(5)(B)(i) | 16,108 | 16,630
Violation by an individual or small business concern related to the registration or recordation under 49 U.S.C. chapter 441, of an aircraft not used to provide air transportation | 49 U.S.C. 46301(a)(5)(B)(ii) | 16,108 | 16,630
Violation by an individual or small business concern of 49 U.S.C. 44718(d), relating to limitation on construction or establishment of landfills | 49 U.S.C. 46301(a)(5)(B)(iii) | 16,108 | 16,630
Violation by an individual or small business concern of 49 U.S.C. 44725, relating to the safe disposal of life-limited aircraft parts | 49 U.S.C. 46301(a)(5)(B)(iv) | 16,108 | 16,630
Individual who aims the beam of a laser pointer at an aircraft in the airspace jurisdiction of the United States, or at the flight path of such an aircraft | 49 U.S.C. 46301 note | 30,820 | 31,819
Tampering with a smoke alarm device | 49 U.S.C. 46301(b) | 5,171 | 5,339
Knowingly providing false information about alleged violation involving the special aircraft jurisdiction of the United States | 49 U.S.C. 46302 | 28,085 | 28,995
Physical or sexual assault or threat to physically or sexually assault crewmember or other individual on an aircraft, or action that poses an imminent threat to the safety of the aircraft or individuals on board | 49 U.S.C. 46318 | 42,287 | 43,658
Permanent closure of an airport without providing sufficient notice | 49 U.S.C. 46319 | 16,108 | 16,630
Operating an unmanned aircraft and in so doing knowingly or recklessly interfering with a wildfire suppression, law enforcement, or emergency response effort | 49 U.S.C. 46320 | 24,656 | 25,455
Violation of 51 U.S.C. 50901-50923, a regulation issued under these statutes, or any term or condition of a license or permit issued or transferred under these statutes | 51 U.S.C. 50917(c) | 283,009 | 292,181

C. National Highway Traffic Safety Administration (NHTSA) 2024 Adjustments

NHTSA's 2024 civil penalty adjustments are summarized in the chart below.

Description | Citation | Existing penalty | New penalty (existing penalty × 1.03241)
Maximum penalty amount for each violation of: 49 U.S.C. 30112, 30115, 30117-30122, 30123(a), 30125(c), 30127, 30141-30147, 30166 or 31137, or a regulation prescribed under any of these sections | 49 U.S.C. 30165(a)(1), 30165(a)(3) | $26,315 | $27,168
Maximum penalty amount for a related series of violations of: 49 U.S.C. 30112, 30115, 30117-30122, 30123(a), 30125(c), 30127, 30141- 30147, 30166 or 31137, or a regulation prescribed under any of these sections | 49 U.S.C. 30165(a)(1), 30165(a)(3) | 131,564,183 | 135,828,178
Maximum penalty per school bus related violation of 49 U.S.C. 30112(a)(1) or 30112(a)(2) | 49 U.S.C. 30165(a)(2)(A) | 14,960 | 15,445
Maximum penalty amount for a series of school bus related violations of 49 U.S.C. 30112(a)(1) or 30112(a)(2) | 49 U.S.C. 30165(a)(2)(B) | 22,440,526 | 23,167,823
Maximum penalty per violation for filing false or misleading reports | 49 U.S.C. 30165(a)(4) | 6,441 | 6,650
Maximum penalty amount for a series of violations related to filing false or misleading reports | 49 U.S.C. 30165(a)(4) | 1,288,315 | 1,330,069
Maximum penalty amount for each violation of the reporting requirements related to maintaining the National Motor Vehicle Title Information System | 49 U.S.C. 30505 | 2,100 | 2,168
Maximum penalty amount for each violation of a bumper standard under 49 U.S.C. 32506 | 49 U.S.C. 32507(a) | 3,446 | 3,558
Maximum penalty amount for a series of violations of a bumper standard under 49 U.S.C. 32506 | 49 U.S.C. 32507(a) | 3,837,393 | 3,961,763
Maximum penalty amount for each violation of 49 U.S.C. 32308(a) related to providing information on crashworthiness and damage susceptibility | 49 U.S.C. 32308(b) | 3,446 | 3,558
Maximum penalty amount for a series of violations of 49 U.S.C. 32308(a) related to providing information on crashworthiness and damage susceptibility | 49 U.S.C. 32308(b) | 1,879,489 | 1, 940,403
Maximum penalty for each violation related to the tire fuel efficiency information program | 49 U.S.C. 32308(c) | 71,317 | 73,628
Maximum civil penalty for willfully failing to affix, or failing to maintain, the label required in 49 U.S.C. 32304 | 49 U.S.C. 32309 | 2,100 | 2,168
Maximum penalty amount per violation related to odometer tampering and disclosure | 49 U.S.C. 32709 | 12,882 | 13,300
Maximum penalty amount for a related series of violations related to odometer tampering and disclosure | 49 U.S.C. 32709 | 1,288,315 | 1,330,069
Maximum penalty amount per violation related to odometer tampering and disclosure with intent to defraud | 49 U.S.C. 32710 | 12,882 | 13,300
Maximum penalty amount for each violation of 49 U.S.C. 33114(a)(1)-(4) | 49 U.S.C. 33115(a) | 2,830 | 2,922
Maximum penalty amount for a related series of violations of 49 U.S.C. 33114(a)(1)-(4) | 49 U.S.C. 33115(a) | 707,524 | 730,455
Maximum civil penalty for violations of 49 U.S.C. 33114(a)(5) | 49 U.S.C. 33115(b) | 210,161 | 216,972
Maximum civil penalty for violations under 49 U.S.C. 32911(a) related to automobile fuel economy | 49 U.S.C 32912(a) | 49,534 | 51,139
Civil penalty factor for violations of fuel economy standards prescribed for a model year under 49 U.S.C. 32902 ³ | 49 U.S.C. 32912(b) | 16 | 17
Maximum civil penalty factor that may be prescribed for fuel economy standards under 49 U.S.C. 32912(c)(1)(A) | 49 U.S.C. 32912(c)(1)(B) | 31 | 32
Maximum civil penalty for a violation under the medium- and heavy-duty vehicle fuel efficiency program | 49 U.S.C. 32902 | 48,779 | 50,360
³ For model years before model year 2019, the civil penalty is $5.50; for model years 2019 through 2021, the civil penalty is $14; for model year 2022, the civil penalty is $15; for model year 2023, the civil penalty is $16; for model year 2024, the civil penalty is $17.

D. Federal Motor Carrier Safety Administration (FMCSA) 2024 Adjustments

FMCSA's civil penalties affected by this rule are all located in appendices A and B to 49 CFR part 386. The 2024 adjustments to these civil penalties are summarized in the chart below. Note that the civil penalties for violations of Appendix A IV (h) and (j) were incorrectly stated in the regulatory text of the 2023 update as $31,536 rather than $28,304 (88 FR 1114, 1130; Jan. 6, 2023), though these penalties were correctly stated in the preamble as updated from $26,269 as $28,304 (Id. at 1117). These errors have been corrected in this 2024 update. In addition, the civil penalties for violations of Appendix B (i)(1) and (2) were incorrectly stated in the regulatory text of the 2023 update as $6,247 rather than $6,441 (Id. at 1131), though these penalties were correctly stated in the preamble as updated from $5,978 to $6,441 (Id. at 1119). These errors have also been corrected in this 2024 update.

Description | Citation | Existing penalty | New penalty (existing penalty × 1.03241)
Appendix A II Subpoena | 49 U.S.C. 525 | $1,288 | $1,330
Appendix A II Subpoena | 49 U.S.C. 525 | 12,882 | 13,300
Appendix A IV (a) Out-of-service order (operation of commercial motor vehicle (CMV) by driver) | 49 U.S.C. 521(b)(7) | 2,232 | 2,304
Appendix A IV (b) Out-of-service order (requiring or permitting operation of CMV by driver) | 49 U.S.C. 521(b)(7) | 22,324 | 23,048
Appendix A IV (c) Out-of-service order (operation by driver of CMV or intermodal equipment that was placed out of service) | 49 U.S.C. 521(b)(7) | 2,232 | 2,304
Appendix A IV (d) Out-of-service order (requiring or permitting operation of CMV or intermodal equipment that was placed out of service) | 49 U.S.C. 521(b)(7) | 22,324 | 23,048
Appendix A IV (e) Out-of-service order (failure to return written certification of correction) | 49 U.S.C. 521(b)(2)(B) | 1,116 | 1,152
Appendix A IV (g) Out-of-service order (failure to cease operations as ordered) | 49 U.S.C. 521(b)(2)(F) | 32,208 | 33,252
Appendix A IV (h) Out-of-service order (operating in violation of order) | 49 U.S.C. 521(b)(7) | 28,304 | 29,221
Appendix A IV (i) Out-of-service order (conducting operations during suspension or revocation for failure to pay penalties) | 49 U.S.C. 521(b)(2)(A) and (b)(7) | 18,170 | 18,759
Appendix A IV (j) (conducting operations during suspension or revocation) | 49 U.S.C. 521(b)(7) | 28,304 | 29,221
Appendix B (a)(1) Recordkeeping—maximum penalty per day | 49 U.S.C. 521(b)(2)(B)(i) | 1,496 | 1,544
Appendix B (a)(1) Recordkeeping—maximum total penalty | 49 U.S.C. 521(b)(2)(B)(i) | 14,960 | 15,445
Appendix B (a)(2) Knowing falsification of records | 49 U.S.C. 521(b)(2)(B)(ii) | 14,960 | 15,445
Appendix B (a)(3) Non-recordkeeping violations | 49 U.S.C. 521(b)(2)(A) | 18,170 | 18,759
Appendix B (a)(4) Non-recordkeeping violations by drivers | 49 U.S.C. 521(b)(2)(A) | 4,543 | 4,690
Appendix B (a)(5) Violation of 49 CFR 392.5 (first conviction) | 49 U.S.C. 31310(i)(2)(A) | 3,740 | 3,861
Appendix B (a)(5) Violation of 49 CFR 392.5 (second or subsequent conviction) | 49 U.S.C. 31310(i)(2)(A) | 7,481 | 7,723
Appendix B (b) Commercial driver's license (CDL) violations | 49 U.S.C. 521(b)(2)(C) | 6,755 | 6,974
Appendix B (b)(1): Special penalties pertaining to violation of out-of-service orders (first conviction) | 49 U.S.C. 31310(i)(2)(A) | 3,740 | 3,861
Appendix B (b)(1) Special penalties pertaining to violation of out-of-service orders (second or subsequent conviction) | 49 U.S.C. 31310(i)(2)(A) | 7,481 | 7,723
Appendix B (b)(2) Employer violations pertaining to knowingly allowing, authorizing employee violations of out-of-service order (minimum penalty) | 49 U.S.C. 521(b)(2)(C) | 6,755 | 6,974
Appendix B (b)(2) Employer violations pertaining to knowingly allowing, authorizing employee violations of out-of-service order (maximum penalty) | 49 U.S.C. 31310(i)(2)(C) | 37,400 | 38,612
Appendix B (b)(3) Special penalties pertaining to railroad-highway grade crossing violations | 49 U.S.C. 31310(j)(2)(B) | 19,389 | 20,017
Appendix B (d) Financial responsibility violations | 49 U.S.C. 31138(d)(1), 31139(g)(1) | 19,933 | 20,579
Appendix B (e)(1) Violations of Hazardous Materials Regulations (HMRs) and Safety Permitting Regulations (transportation or shipment of hazardous materials) | 49 U.S.C. 5123(a)(1) | 96,624 | 99,756
Appendix B (e)(2) Violations of Hazardous Materials Regulations (HMRs) and Safety Permitting Regulations (training)—minimum penalty | 49 U.S.C. 5123(a)(3) | 582 | 601
Appendix B (e)(2): Violations of Hazardous Materials Regulations (HMRs) and Safety Permitting Regulations (training)—maximum penalty | 49 U.S.C. 5123(a)(1) | 96,624 | 99,756
Appendix B (e)(3) Violations of Hazardous Materials Regulations (HMRs) and Safety Permitting Regulations (packaging or container) | 49 U.S.C. 5123(a)(1) | 96,624 | 99,756
Appendix B (e)(4): Violations of Hazardous Materials Regulations (HMRs) and Safety Permitting Regulations (compliance with FMCSRs) | 49 U.S.C. 5123(a)(1) | 96,624 | 99,756
Appendix B (e)(5) Violations of Hazardous Materials Regulations (HMRs) and Safety Permitting Regulations (death, serious illness, severe injury to persons; destruction of property) | 49 U.S.C. 5123(a)(2) | 225,455 | 232,762
Appendix B (f)(1) Operating after being declared unfit by assignment of a final “unsatisfactory” safety rating (generally) | 49 U.S.C. 521(b)(2)(F) | 32,208 | 33,252
Appendix B (f)(2) Operating after being declared unfit by assignment of a final “unsatisfactory” safety rating (hazardous materials)—maximum penalty | 49 U.S.C. 5123(a)(1) | 96,624 | 99,756
Appendix B (f)(2): Operating after being declared unfit by assignment of a final “unsatisfactory” safety rating (hazardous materials)—maximum penalty if death, serious illness, severe injury to persons; destruction of property | 49 U.S.C. 5123(a)(2) | 225,455 | 232,762
Appendix B (g)(1): Violations of the commercial regulations (CRs) (property carriers) | 49 U.S.C. 14901(a) | 12,882 | 13,300
Appendix B (g)(2) Violations of the CRs (brokers) | 49 U.S.C. 14916(c) | 12,882 | 13,300
Appendix B (g)(3) Violations of the CRs (passenger carriers) | 49 U.S.C. 14901(a) | 32,208 | 33,252
Appendix B (g)(4) Violations of the CRs (foreign motor carriers, foreign motor private carriers) | 49 U.S.C. 14901(a) | 12,882 | 13,300
Appendix B (g)(5) Violations of the operating authority requirement (foreign motor carriers, foreign motor private carriers)—maximum penalty for intentional violation | 49 U.S.C. 14901 note | 17,717 | 18,291
Appendix B (g)(5) Violations of the operating authority requirement (foreign motor carriers, foreign motor private carriers)—maximum penalty for a pattern of intentional violations | 49 U.S.C. 14901 note | 44,294 | 45,730
Appendix B (g)(6) Violations of the CRs (motor carrier or broker for transportation of hazardous wastes)—minimum penalty | 49 U.S.C. 14901(b) | 25,767 | 26,602
Appendix B (g)(6) Violations of the CRs (motor carrier or broker for transportation of hazardous wastes)—maximum penalty | 49 U.S.C. 14901(b) | 51,533 | 53,203
Appendix B (g)(7): Violations of the CRs (household goods (HHG) carrier or freight forwarder, or their receiver or trustee) | I49 U.S.C. 14901(d)(1) | 1,937 | 2,000
Appendix B (g)(8) Violation of the CRs (weight of HHG shipment, charging for services)—minimum penalty for first violation | 49 U.S.C. 14901(e) | 3,879 | 4,005
Appendix B (g)(8) Violation of the CRs (weight of HHG shipment, charging for services)—minimum penalty for subsequent violation | 49 U.S.C. 14901(e) | 9,695 | 10,009
Appendix B (g)(10) Tariff violations | 49 U.S.C. 13702, 14903 | 193,890 | 200,174
Appendix B (g)(11) Additional tariff violations (rebates or concessions)—first violation | 49 U.S.C. 14904(a) | 387 | 400
Appendix B (g)(11) Additional tariff violations (rebates or concessions)—subsequent violations | 49 U.S.C. 14904(a) | 484 | 500
Appendix B (g)(12): Tariff violations (freight forwarders)—maximum penalty for first violation | 49 U.S.C. 14904(b)(1) | 971 | 1,002
Appendix B (g)(12): Tariff violations (freight forwarders)—maximum penalty for subsequent violations | 49 U.S.C. 14904(b)(1) | 3,879 | 4,005
Appendix B (g)(13): service from freight forwarder at less than rate in effect—maximum penalty for first violation | 49 U.S.C. 14904(b)(2) | 971 | 1,002
Appendix B (g)(13): service from freight forwarder at less than rate in effect—maximum penalty for subsequent violation(s) | 49 U.S.C. 14904(b)(2) | 3,879 | 4,005
Appendix B (g)(14): Violations related to loading and unloading motor vehicles | 49 U.S.C. 14905 | 19,389 | 20,017
Appendix B (g)(16): Reporting and recordkeeping under 49 U.S.C. subtitle IV, part B (except 13901 and 13902(c))—minimum penalty | 49 U.S.C. 14901 | 1,288 | 1,330
Appendix B (g)(16): Reporting and recordkeeping under 49 U.S.C. subtitle IV, part B—maximum penalty | 49 U.S.C. 14907 | 9,695 | 10,009
Appendix B (g)(17): Unauthorized disclosure of information | 49 U.S.C. 14908 | 3,879 | 4,005
Appendix B (g)(18): Violation of 49 U.S.C. subtitle IV, part B, or condition of registration | 49 U.S.C. 14910 | 971 | 1,002
Appendix B (g)(21)(i): Knowingly and willfully fails to deliver or unload HHG at destination | 49 U.S.C. 14915 | 19,389 | 20,017
Appendix B (g)(22): HHG broker estimate before entering into an agreement with a motor carrier | 49 U.S.C. 14901(d)(2) | 14,960 | 15,445
Appendix B (g)(23): HHG transportation or broker services—registration requirement | 49 U.S.C. 14901 (d)(3) | 37,400 | 38,612
Appendix B (h): Copying of records and access to equipment, lands, and buildings—maximum penalty per day | 49 U.S.C. 521(b)(2)(E) | 1,496 | 1,544
Appendix B (h): Copying of records and access to equipment, lands, and buildings—maximum total penalty | 49 U.S.C. 521(b)(2)(E) | 14,960 | 15,445
Appendix B (i)(1): Evasion of regulations under 49 U.S.C. ch. 5, 51, subchapter III of ch. 311 (except 31138 and 31139), 31302-31304, 31305(b), 31310(g)(1)(A), or 31502—minimum penalty for first violation | 49 U.S.C. 524 | 2,577 | 2,661
Appendix B (i)(1): Evasion of regulations under 49 U.S.C. ch. 5, 51, subchapter III of ch. 311 (except 31138 and 31139), 31302-31304, 31305(b), 31310(g)(1)(A), or 31502—maximum penalty for first violation | 49 U.S.C. 524 | 6,441 | 6,650
Appendix B (i)(1): Evasion of regulations under 49 U.S.C. ch. 5, 51, subchapter III of ch. 311 (except 31138 and 31139), 31302-31304, 31305(b), 31310(g)(1)(A), or 31502—minimum penalty for subsequent violation(s) | 49 U.S.C. 524 | 3,219 | 3,323
Appendix B (i)(1): Evasion of regulations under 49 U.S.C. ch. 5, 51, subchapter III of ch. 311 (except 31138 and 31139), 31302-31304, 31305(b), 31310(g)(1)(A), or 31502—maximum penalty for subsequent violation(s) | 49 U.S.C. 524 | 9,652 | 9,965
Appendix B (i)(2): Evasion of regulations under 49 U.S.C. subtitle IV, part B—minimum penalty for first violation | 49 U.S.C. 14906 | 2,577 | 2,661
Appendix B (i)(2): Evasion of regulations under 49 U.S.C. subtitle IV, part B—minimum penalty for subsequent violation(s) | 49 U.S.C. 14906 | 6,441 | 6,650

E. Federal Railroad Administration (FRA) 2024 Adjustments

FRA's 2024 civil penalty adjustments are summarized in the chart below.

Description | Citation | Existing penalty | New penalty (existing penalty × 1.03241)
Minimum rail safety penalty | 49 U.S.C. ch. 213 | $1,052 | $1,086
Ordinary maximum rail safety penalty | 49 U.S.C. ch. 213 | 34,401 | 35,516
Maximum penalty for an aggravated rail safety violation | 49 U.S.C. ch. 213 | 137,603 | 142,063
Minimum penalty for hazardous materials training violations | 49 U.S.C. 5123 | 582 | 601
Maximum penalty for ordinary hazardous materials violations | 49 U.S.C. 5123 | 96,624 | 99,756
Maximum penalty for aggravated hazardous materials violations | 49 U.S.C. 5123 | 225,455 | 232,762

F. Pipeline and Hazardous Materials Safety Administration (PHMSA) 2024 Adjustments

PHMSA's civil penalties affected by this rule for hazardous materials violations are located in 49 CFR 107.329, appendix A to subpart D of 49 CFR part 107, and § 171.1. The civil penalties affected by this rule for pipeline safety violations are located in § 190.223. PHMSA's 2024 civil penalty adjustments are summarized in the chart below.

Description | Citation | Existing penalty | New penalty (existing penalty × 1.03241)
Maximum penalty for hazardous materials violation | 49 U.S.C. 5123 | $96,624 | $99,756
Maximum penalty for hazardous materials violation that results in death, serious illness, or severe injury to any person or substantial destruction of property | 49 U.S.C. 5123 | 225,455 | 232,762
Minimum penalty for hazardous materials training violations | 49 U.S.C. 5123 | 582 | 601
Maximum penalty for each pipeline safety violation | 49 U.S.C. 60122(a)(1) | 257,664 | 266,015
Maximum penalty for a related series of pipeline safety violations | 49 U.S.C. 60122(a)(1) | 2,576,627 | 2,660,135
Maximum additional penalty for each liquefied natural gas pipeline facility violation | 49 U.S.C. 60122(a)(2) | 94,128 | 97,179
Maximum penalty for discrimination against employees providing pipeline safety information | 49 U.S.C. 60122(a)(3) | 1,496 | 1,544

G. Maritime Administration (MARAD) 2024 Adjustments

MARAD's 2024 civil penalty adjustments are summarized in the chart below. Note that the penalty in the regulatory text at 46 CFR 221.61(b) for violations of 46 U.S.C. 56010(e) was stated in error as $22,750 in the 2023 civil penalties rule update (88 FR 1114, 1124), though it was correctly stated in the preamble of the that rule as $24,905, updated from the 2022 civil penalty of $23,115 (Id. at 1120). This error has been corrected in this 2024 update.

Description | Citation | Existing penalty | New penalty (existing penalty × 1.03241)
Maximum civil penalty for a single violation of any provision under 46 U.S.C. Chapter 313 and all of Subtitle III related MARAD regulations, except for violations of 46 U.S.C. 31329 | 46 U.S.C. 31309 | 24,746 | 25,548
Maximum civil penalty for a single violation of 46 U.S.C. 31329 as it relates to the court sales of documented vessels | 46 U.S.C. 31330 | 61,982 | 63,991
Maximum civil penalty for a single violation of 46 U.S.C. 56101 as it relates to approvals required to transfer a vessel to a noncitizen | 46 U.S.C. 56101(e) | 24,905 | 25,712
Maximum civil penalty for failure to file an Automated Mutual Assistance Vessel Rescue System (AMVER) report | 46 U.S.C. 50113(b) | 157 | 162
Maximum civil penalty for violating procedures for the use and allocation of shipping services, port facilities and services for national security and national defense operations | 50 U.S.C. 4513 | 31,326 | 32,341
Maximum civil penalty for violations in applying for or renewing a vessel's fishery endorsement | 46 U.S.C. 12151 | 181,713 | 187,602

H. Great Lakes St. Lawrence Seaway Development Corporation (GLS) 2024 Adjustments

The 2024 civil penalty adjustment for GLS is as follows:

Description | Citation | Existing penalty | New penalty (existing penalty ×1.03241)
Maximum civil penalty for each violation of the Seaway Rules and Regulations at 33 CFR part 401 | 33 U.S.C. 1232 | $111,031 | $114,630

Regulatory Analysis and Notices

A. Executive Order 12866 and DOT Regulatory Policies and Procedures

This final rule has been evaluated in accordance with existing policies and procedures and is considered not significant under Executive Order 12866 and DOT's Regulatory Policies and Procedures; therefore, the rule has not been reviewed by the Office of Management and Budget (OMB) under Executive Order 12866.

B. Regulatory Flexibility Analysis

The Department has determined the Regulatory Flexibility Act of 1980 (RFA) (5 U.S.C. 601, et seq.) does not apply to this rulemaking. The RFA applies, in pertinent part, only when “an agency is required . . . to publish general notice of proposed rulemaking.” 5 U.S.C. 604(a). The Small Business Administration's A Guide for Government Agencies: How to Comply with the Regulatory Flexibility Act (2012), explains that:

If, under the [Administrative Procedure Act (APA)] or any rule of general applicability governing federal grants to state and local governments, the agency is required to publish a general notice of proposed rulemaking (NPRM), the RFA must be considered [citing 5 U.S.C. 604(a)]. . . . If an NPRM is not required, the RFA does not apply.

As stated above, DOT has determined that good cause exists to publish this final rule without notice and comment procedures under the APA. Therefore, the analytical requirements of the RFA do not apply.

C. Executive Order 13132 (Federalism)

This final rule has been analyzed in accordance with the principles and criteria contained in Executive Order 13132 (“Federalism”). This regulation has no substantial direct effects on the States, the relationship between the National Government and the States, or the distribution of power and responsibilities among the various levels of government. It does not contain any provision that imposes substantial direct compliance costs on State and local governments. Therefore, the consultation and funding requirements of Executive Order 13132 do not apply.

D. Executive Order 13175

This final rule has been analyzed in accordance with the principles and criteria contained in Executive Order 13175, Consultation and Coordination with Indian Tribal Governments. Because none of the measures in the rule have tribal implications or impose substantial direct compliance costs on Indian tribal governments, the funding and consultation requirements of Executive Order 13175 do not apply.

E. Paperwork Reduction Act

Under the Paperwork Reduction Act, before an agency submits a proposed collection of information to OMB for approval, it must publish a document in the Federal Register providing notice of and a 60-day comment period on, and otherwise consult with members of the public and affected agencies concerning, each proposed collection of information. This final rule imposes no new information reporting or record keeping necessitating clearance by OMB.

F. National Environmental Policy Act

The Department has analyzed the environmental impacts of this final rule pursuant to the National Environmental Policy Act of 1969 (NEPA) (42 U.S.C. 4321, et seq.) and has determined that it is categorically excluded pursuant to DOT Order 5610.1C, Procedures for Considering Environmental Impacts (44 FR 56420, Oct. 1, 1979, as amended July 13, 1982, and July 30, 1985). Categorical exclusions are actions identified in an agency's NEPA implementing procedures that do not normally have a significant impact on the environment and therefore do not require either an environmental assessment (EA) or environmental impact statement (EIS). See 40 CFR 1508.4. In analyzing the applicability of a categorical exclusion, the agency must also consider whether extraordinary circumstances are present that would warrant the preparation of an EA or EIS. Id. Paragraph 4(c)(5) of DOT Order 5610.1C includes the categorical exclusions for all DOT Operating Administrations. This action qualifies for a categorical exclusion in accordance with FAA Order 1050.1F, Environmental Impacts: Policies and Procedures (80 FR 44208, July 24, 2015), paragraph 5-6.6.f, which covers regulations not expected to cause any potentially significant environmental impacts. The Department does not anticipate any environmental impacts, and there are no extraordinary circumstances present in connection with this final rule.

G. Unfunded Mandates Reform Act

The Department analyzed the final rule under the factors in the Unfunded Mandates Reform Act of 1995. The Department considered whether the rule includes a Federal mandate that may result in the expenditure by State, local, and tribal governments, in the aggregate, or by the private sector, of $100,000,000 or more (adjusted annually for inflation) in any one year. The Department has determined that this final rule will not result in such expenditures. Accordingly, no further assessment or analysis is required under the Unfunded Mandates Reform Act.

List of Subjects

14 CFR Part 13

Administrative practice and procedure, Air transportation, Hazardous materials transportation, Investigations, Law enforcement, Penalties.

14 CFR Part 383

Administrative practice and procedure, Penalties.

14 CFR Part 406

Administrative procedure and review, Commercial space transportation, Enforcement, Investigations, Penalties, Rules of adjudication.

33 CFR Part 401

Hazardous materials transportation, Navigation (water), Penalties, Radio, Reporting and recordkeeping requirements, Vessels, Waterways.

46 CFR Part 221

Administrative practice and procedure, Maritime carriers, Mortgages, Penalties, Reporting and recordkeeping requirements, Trusts and trustees.

46 CFR Part 307

Marine safety, Maritime carriers, Penalties, Reporting and recordkeeping requirements.

46 CFR Part 340

Harbors, Maritime carriers, National defense, Packaging and containers.

46 CFR Part 356

Citizenship and naturalization, Fishing vessels, Mortgages, Penalties, Reporting and recordkeeping requirements, Vessels.

49 CFR Part 107

Administrative practices and procedure, Hazardous materials transportation, Packaging and containers, Penalties, Reporting and recordkeeping requirements.

49 CFR Part 171

Administrative practice and procedure, Exports, Hazardous materials transportation, Hazardous waste, Imports, Information, Reporting and recordkeeping requirements.

49 CFR Part 190

Administrative practice and procedure, Penalties, Pipeline safety.

49 CFR Part 209

Administrative practice and procedure, Hazardous materials transportation, Penalties, Railroad safety, Reporting and recordkeeping requirements.

49 CFR Part 213

Bridges, Penalties, Railroad safety, Reporting and recordkeeping requirements.

49 CFR Part 214

Bridges, Occupational safety and health, Penalties, Railroad safety, Reporting and recordkeeping requirements.

49 CFR Part 215

Freight, Penalties, Railroad safety, Reporting and recordkeeping requirements.

49 CFR Parts 216, 217, 221, 224, 229, 230, 232, 233, and 239

Penalties, Railroad safety, Reporting and recordkeeping requirements.

49 CFR Part 218

Occupational safety and health, Penalties, Railroad employees, Railroad safety, Reporting and recordkeeping requirements.

49 CFR Part 219

Alcohol abuse, Drug abuse, Drug testing, Penalties, Railroad safety, Reporting and recordkeeping requirements, Safety, Transportation.

49 CFR Part 220

Penalties, Radio, Railroad safety, Reporting and recordkeeping requirements.

49 CFR Parts 222, 235, 240, 242, 243, and 244

Administrative practice and procedure, Penalties, Railroad safety, Reporting and recordkeeping requirements.

49 CFR Part 223

Glazing standards, Penalties, Railroad safety, Reporting and recordkeeping requirements.

49 CFR Part 225

Investigations, Penalties, Railroad safety, Reporting and recordkeeping requirements.

49 CFR Part 227

Noise control, Occupational safety and health, Penalties, Railroad safety, Reporting and recordkeeping requirements.

49 CFR Part 228

Penalties, Railroad employees, Reporting and recordkeeping requirements.

49 CFR Part 231

Penalties, Railroad safety.

49 CFR Part 234

Highway safety, Penalties, Railroad safety, Reporting and recordkeeping requirements, State and local governments.

49 CFR Part 236

Penalties, Positive train control, Railroad safety, Reporting and recordkeeping requirements.

49 CFR Part 237

Bridges, Penalties, Railroad safety, Reporting and recordkeeping requirements.

49 CFR Part 238

Fire prevention, Passenger equipment, Penalties, Railroad safety, Reporting and recordkeeping requirements.

49 CFR Part 241

Communications, Penalties, Railroad safety, Reporting and recordkeeping requirements.

49 CFR Part 272

Penalties, Railroad employees, Railroad safety, Railroads, Safety, Transportation.

49 CFR Part 386

Administrative procedures, Commercial motor vehicle safety, Highways and roads, Motor carriers, Penalties.

49 CFR Part 578

Imports, Motor vehicle safety, Motor vehicles, Penalties, Rubber and rubber products, Tires.

Accordingly, the Department of Transportation amends 14 CFR chapters I, II, and III, 33 CFR chapter IV, 46 CFR chapter II, and 49 CFR chapters I, II, III, and V as follows:

Title 14—Aeronautics and Space

PART 13—INVESTIGATIVE AND ENFORCEMENT PROCEDURES

1. The authority citation for part 13 continues to read as follows:

Authority: 18 U.S.C. 6002; 28 U.S.C. 2461 (note); 49 U.S.C. 106(g), 5121-5124, 40113-40114, 44103-44106, 44701-44704, 44709-44710, 44713, 44725, 44742, 44802 (note), 46101-46111, 46301, 46302 (for a violation of 49 U.S.C. 46504), 46304-46316, 46318-46320, 46501-46502, 46504, 46507, 47106, 47107, 47111, 47122, 47306, 47531-47532; 49 CFR 1.83.

2. Amend § 13.301 by revising paragraphs (b) and (c) to read as follows:

§ 13.301 Inflation adjustments of civil monetary penalties.

* * * * *

(b) Each adjustment to a maximum civil monetary penalty or to minimum and maximum civil monetary penalties that establish a civil monetary penalty range applies to actions initiated under this part for violations occurring on or after December 28, 2023, notwithstanding references to specific civil penalty amounts elsewhere in this part.

(c) Minimum and maximum civil monetary penalties are as follows:

Table 1 to § 13.301(c)—Minimum and Maximum Civil Monetary Penalty Amounts for Certain Violations
United States Code citation | Civil monetary penalty description | 2023 minimum penalty amount | New adjusted minimum penalty amount for violations occurring on or after December 28, 2023 | 2023 maximum penalty amount | New adjusted maximum penalty amount for violations occurring on or after December 28, 2023
49 U.S.C. 5123(a)(1) | Violation of hazardous materials transportation law | N/A | N/A | $96,624 | $99,756.
49 U.S.C. 5123(a)(2) | Violation of hazardous materials transportation law resulting in death, serious illness, severe injury, or substantial property destruction | N/A | N/A | $225,455 | $232,762.
49 U.S.C. 5123(a)(3) | Violation of hazardous materials transportation law relating to training | $582 | $601 | $96,624 | $99,756.
49 U.S.C. 44704(d)(3) | Knowing presentation of a nonconforming aircraft for issuance of an initial airworthiness certificate by a production certificate holder | N/A | N/A | $1,144,488 | $1,181,581.
49 U.S.C. 44704(e)(4) | Knowing failure by an applicant for or holder of a type certificate to submit safety critical information or include certain such information in an airplane flight manual or flight crew operating manual | N/A | N/A | $1,144,488 | $1,181,581.
49 U.S.C. 44704(e)(5) | Knowing false statement by an airline transport pilot (ATP) certificate holder with respect to the submission of certain safety critical information | N/A | N/A | See entries for 49 U.S.C. 46301(a)(1) and (a)(5) | See entries for 49 U.S.C. 46301(a)(1) and (a)(5).
49 U.S.C. 44742 | Interference by a supervisory employee of an organization designation authorization (ODA) holder that manufactures a transport category airplane with an ODA unit member's performance of authorized functions | N/A | N/A | See entries for 49 U.S.C. 46301(a)(1) | See entries for 49 U.S.C. 46301(a)(1).
49 U.S.C. 44802 note | Operation of an unmanned aircraft or unmanned aircraft system equipped or armed with a dangerous weapon | N/A | N/A | $29,462 | $30,417.
49 U.S.C. 46301(a)(1) | Violation by a person other than an individual or small business concern under 49 U.S.C. 46301(a)(1)(A) or (B) | N/A | N/A | $40,272 | $41,577.
49 U.S.C. 46301(a)(1) | Violation by an airman serving as an airman under 49 U.S.C. 46301(a)(1)(A) or (B) (but not covered by 46301(a)(5)(A) or (B)) | N/A | N/A | $1,771 | $1,828.
49 U.S.C. 46301(a)(1) | Violation by an individual or small business concern under 49 U.S.C. 46301(a)(1)(A) or (B) (but not covered in 49 U.S.C. 46301(a)(5)) | N/A | N/A | $1,771 | $1,828.
49 U.S.C. 46301(a)(3) | Violation of 49 U.S.C. 47107(b) (or any assurance made under such section) or 49 U.S.C. 47133 | N/A | N/A | Increase above otherwise applicable maximum amount not to exceed 3 times the amount of revenues used in violation of such section | No change.
49 U.S.C. 46301(a)(5)(A) | Violation by an individual or small business concern (except an airman serving as an airman) under 49 U.S.C. 46301(a)(5)(A)(i) or (ii) | N/A | N/A | $16,108 | $16,630.
49 U.S.C. 46301(a)(5)(B)(i) | Violation by an individual or small business concern related to the transportation of hazardous materials | N/A | N/A | $16,108 | $16,630.
49 U.S.C. 46301(a)(5)(B)(ii) | Violation by an individual or small business concern related to the registration or recordation under 49 U.S.C. chapter 441, of an aircraft not used to provide air transportation | N/A | N/A | $16,108 | $16,630.
49 U.S.C. 46301(a)(5)(B)(iii) | Violation by an individual or small business concern of 49 U.S.C. 44718(d), relating to limitation on construction or establishment of landfills | N/A | N/A | $16,108 | $16,630.
49 U.S.C. 46301(a)(5)(B)(iv) | Violation by an individual or small business concern of 49 U.S.C. 44725, relating to the safe disposal of life-limited aircraft parts | N/A | N/A | $16,108 | $16,630.
49 U.S.C. 46301 note | Individual who aims the beam of a laser pointer at an aircraft in the airspace jurisdiction of the United States, or at the flight path of such an aircraft | N/A | N/A | $30,820 | $31,819.
49 U.S.C. 46301(b) | Tampering with a smoke alarm device | N/A | N/A | $5,171 | $5,339.
49 U.S.C. 46302 | Knowingly providing false information about alleged violation involving the special aircraft jurisdiction of the United States | N/A | N/A | $28,085 | $28,995.
49 U.S.C. 46318 | Physical or sexual assault or threat to physically or sexually assault crewmember or other individual on an aircraft, or action that poses an imminent threat to the safety of the aircraft or individuals on board | N/A | N/A | $42,287 | $43,658.
49 U.S.C. 46319 | Permanent closure of an airport without providing sufficient notice | N/A | N/A | $16,108 | $16,630.
49 U.S.C. 46320 | Operating an unmanned aircra ft and in so doing knowingly or recklessly interfering with a wildfire suppression, law enforcement, or emergency response effort | N/A | N/A | $24,656 | $25,455.
49 U.S.C. 47531 | Violation of 49 U.S.C. 47528-47530 or 47534, relating to the prohibition of operating certain aircraft not complying with stage 3 noise levels | N/A | N/A | See entries for 49 U.S.C. 46301(a)(1) and (a)(5) | See entries for 49 U.S.C. 46301(a)(1) and (a)(5).

PART 383—CIVIL PENALTIES

3. The authority citation for part 383 continues to read as follows:

Authority: Sec. 701, Pub. L. 114-74, 129 Stat. 584; Sec. 503, Pub. L. 108-176, 117 Stat. 2490; Pub. L. 101-410, 104 Stat. 890; Sec. 31001, Pub. L. 104-134.

4. Section 383.2 is revised to read as follows:

§ 383.2 Amount of penalty.

Civil penalties payable to the U.S. Government for violations of Title 49, Chapters 401 through 421, pursuant to 49 U.S.C. 46301(a), are as follows:

(a) A general civil penalty of not more than $41,577 (or $1,828 for individuals or small businesses) applies to violations of statutory provisions and rules or orders issued under those provisions, other than those listed in paragraph (b) of this section (see 49 U.S.C. 46301(a)(1)); and

(b) With respect to small businesses and individuals, notwithstanding the general civil penalty specified in paragraph (a) of this section, the following civil penalty limits apply:

(1) A maximum civil penalty of $16,630 applies for violations of most provisions of Chapter 401, including the anti-discrimination provisions of sections 40127 (general provision), and 41705 (discrimination against the disabled) and rules and orders issued pursuant to those provisions (see 49 U.S.C. 46301(a)(5)(A));

(2) A maximum civil penalty of $8,315 applies for violations of section 41719 and rules and orders issued pursuant to that provision (see 49 U.S.C. 46301(a)(5)(C)); and

(3) A maximum civil penalty of $4,159 applies for violations of section 41712 or consumer protection rules or orders (see 49 U.S.C. 46301(a)(5)(D)).

PART 406—INVESTIGATIONS, ENFORCEMENT, AND ADMINISTRATIVE REVIEW

5. The authority citation for part 406 continues to read as follows:

Authority: 51 U.S.C. 50901-50923.

6. Amend § 406.9 by revising paragraph (a) to read as follows:

§ 406.9 Civil penalties.

(a) Civil penalty liability. Under 51 U.S.C. 50917(c), a person found by the Federal Aviation Administration (FAA) to have violated a requirement of the Act, a regulation issued under the Act, or any term or condition of a license or permit issued or transferred under the Act, is liable to the United States for a civil penalty of not more than $292,181 for each violation. A separate violation occurs for each day the violation continues.

* * * * *

Title 33—Navigation and Navigable Waters

PART 401—SEAWAY REGULATIONS AND RULES

Subpart B—Penalties—Violations of Seaway Regulations

7. The authority citation for subpart B of part 401 continues to read as follows:

Authority: 33 U.S.C. 981-990; 46 U.S.C. 70001-70004, 70011, and 70032; 49 CFR 1.101, unless otherwise noted.

8. Amend § 401.102 by revising paragraph (a) to read as follows:

§ 401.102 Civil penalty.

(a) A person, as described in § 401.101(b) who violates a regulation in this chapter is liable to a civil penalty of not more than $114,630.

* * * * *

Title 46—Shipping

PART 221—REGULATED TRANSACTIONS INVOLVING DOCUMENTED VESSELS AND OTHER MARITIME INTERESTS

9. The authority citation for part 221 continues to read as follows:

Authority: 46 U.S.C. chs. 301, 313, and 561; Pub. L. 114-74; 49 CFR 1.93.

10. Amend § 221.61 by revising paragraph (b) to read as follows:

§ 221.61 Compliance.

* * * * *

(b) Pursuant to 46 U.S.C. 31309, a general penalty of not more than $25,548 may be assessed for each violation of chapter 313 or 46 U.S.C. subtitle III administered by the Maritime Administration, and pursuant to the regulations in this part a person violating 46 U.S.C. 31329 is liable for a civil penalty of not more than $63,991 for each violation. A person who charters, sells, transfers, or mortgages a vessel, or an interest therein, in violation of 46 U.S.C. 56101(e) is liable for a civil penalty of not more than $25,712 for each violation.

PART 307—ESTABLISHMENT OF MANDATORY POSITION REPORTING SYSTEM FOR VESSELS

11. The authority citation for part 307 continues to read as follows:

Authority: Pub. L. 109-304; 46 U.S.C. 50113; Pub. L. 114-74; 49 CFR 1.93.

12. Section 307.19 is revised to read as follows:

§ 307.19 Penalties.

The owner or operator of a vessel in the waterborne foreign commerce of the United States is subject to a penalty of $162 for each day of failure to file an AMVER report required by this part. Such penalty shall constitute a lien upon the vessel, and such vessel may be libeled in the district court of the United States in which the vessel may be found.

PART 340—PRIORITY USE AND ALLOCATION OF SHIPPING SERVICES, CONTAINERS AND CHASSIS, AND PORT FACILITIES AND SERVICES FOR NATIONAL SECURITY AND NATIONAL DEFENSE RELATED OPERATIONS

13. The authority citation for part 340 continues to read as follows:

Authority: 50 U.S.C. 4501 et seq. (“The Defense Production Act”); Executive Order 13603 (77 FR 16651); Executive Order 12656 (53 FR 47491); Pub. L. 114-74; 49 CFR 1.45; 49 CFR 1.93(l).

14. Section 340.9 is revised to read as follows:

§ 340.9 Compliance.

Pursuant to 50 U.S.C. 4513, any person who willfully performs any act prohibited, or willfully fails to perform any act required, by the provisions of this part shall, upon conviction, be fined not more than $32,341 or imprisoned for not more than one year, or both.

PART 356—REQUIREMENTS FOR VESSELS OF 100 FEET OR GREATER IN REGISTERED LENGTH TO OBTAIN A FISHERY ENDORSEMENT TO THE VESSEL'S DOCUMENTATION

15. The authority citation for part 356 continues to read as follows:

Authority: 46 U.S.C. 12102; 46 U.S.C. 12151; 46 U.S.C. 31322; Pub. L. 105-277, division C, title II, subtitle I, section 203 (46 U.S.C. 12102 note), section 210(e), and section 213(g), 112 Stat. 2681; Pub. L. 107-20, section 2202, 115 Stat. 168-170; Pub. L. 114-74; 49 CFR 1.93.

16. Amend § 356.49 by revising paragraph (b) to read as follows:

§ 356.49 Penalties.

* * * * *

(b) A fine of up to $187,602 may be assessed against the vessel owner for each day in which such vessel has engaged in fishing (as such term is defined in section 3 of the Magnuson-Stevens Fishery Conservation and Management Act (16 U.S.C. 1802)) within the exclusive economic zone of the United States; and

* * * * *

Title 49—Transportation

PART 107—HAZARDOUS MATERIALS PROGRAM PROCEDURES

17. The authority citation for part 107 continues to read as follows:

Authority: 49 U.S.C. 5101-5128, 44701; Pub. L. 101-410 Section 4; Pub. L. 104-121 Sections 212-213; Pub. L. 104-134 Section 31001; Pub. L. 114-74 Section 4 (28 U.S.C. note); 49 CFR 1.81 and 1.97; 33 U.S.C. 1321.

18. Revise § 107.329 to read as follows:

§ 107.329 Maximum penalties.

(a) A person who knowingly violates a requirement of the Federal hazardous material transportation law, an order issued thereunder, this subchapter, subchapter C of this chapter, or a special permit or approval issued under this subchapter applicable to the transportation of hazardous materials or the causing of them to be transported or shipped is liable for a civil penalty of not more than $99,756 for each violation, except the maximum civil penalty is $232,762 if the violation results in death, serious illness, or severe injury to any person or substantial destruction of property. There is no minimum civil penalty, except for a minimum civil penalty of $601 for violations relating to training. When the violation is a continuing one, each day of the violation constitutes a separate offense.

(b) A person who knowingly violates a requirement of the Federal hazardous material transportation law, an order issued thereunder, this subchapter, subchapter C of this chapter, or a special permit or approval issued under this subchapter applicable to the design, manufacture, fabrication, inspection, marking, maintenance, reconditioning, repair or testing of a package, container, or packaging component which is represented, marked, certified, or sold by that person as qualified for use in the transportation of hazardous materials in commerce is liable for a civil penalty of not more than $99,756 for each violation, except the maximum civil penalty is $232,762 if the violation results in death, serious illness, or severe injury to any person or substantial destruction of property. There is no minimum civil penalty, except for a minimum civil penalty of $601 for violations relating to training.

Appendix A to Subpart D of Part 107 [Amended]

19. Amend appendix A to subpart D of part 107, under section B, Penalty Increases for Multiple Counts, in the second paragraph, by removing “$96,624 or $225,455” and “January 6, 2023” and adding in their places “$99,756 or $232,762” and “December 28, 2023,” respectively.

PART 171—GENERAL INFORMATION, REGULATIONS, AND DEFINITIONS

20. The authority citation for part 171 continues to read as follows:

Authority: 49 U.S.C. 5101-5128, 44701; Pub. L. 101-410 section 4; Pub. L. 104-134, section 31001; Pub. L. 114-74 section 4 (28 U.S.C. 2461 note); 49 CFR 1.81 and 1.97.

21. Amend § 171.1 by revising paragraph (g) to read as follows:

§ 171.1 Applicability of Hazardous Materials Regulations (HMR) to persons and functions.

* * * * *

(g) Penalties for noncompliance. Each person who knowingly violates a requirement of the Federal hazardous material transportation law, an order issued under Federal hazardous material transportation law, subchapter A of this chapter, or a special permit or approval issued under subchapter A or C of this chapter is liable for a civil penalty of not more than $99,756 for each violation, except the maximum civil penalty is $232,762 if the violation results in death, serious illness, or severe injury to any person or substantial destruction of property. There is no minimum civil penalty, except for a minimum civil penalty of $601 for a violation relating to training.

PART 190—PIPELINE SAFETY ENFORCEMENT AND REGULATORY PROCEDURES

22. The authority citation for part 190 continues to read as follows:

Authority: 33 U.S.C. 1321(b); 49 U.S.C. 60101 et seq.

23. Amend § 190.223 by revising paragraphs (a), (c), and (d) to read as follows:

§ 190.223 Maximum penalties.

(a) Any person found to have violated a provision of 49 U.S.C. 60101, et seq., or any regulation in 49 CFR parts 190 through 199, or order issued pursuant to 49 U.S.C. 60101, et seq. or 49 CFR part 190, is subject to an administrative civil penalty not to exceed $266,015 for each violation for each day the violation continues, with a maximum administrative civil penalty not to exceed $2,660,135 for any related series of violations.

* * * * *

(c) Any person found to have violated any standard or order under 49 U.S.C. 60103 is subject to an administrative civil penalty not to exceed $97,179, which may be in addition to other penalties to which such person may be subject under paragraph (a) of this section.

(d) Any person who is determined to have violated any standard or order under 49 U.S.C. 60129 is subject to an administrative civil penalty not to exceed $1,544, which may be in addition to other penalties to which such person may be subject under paragraph (a) of this section.

* * * * *

PART 209—RAILROAD SAFETY ENFORCEMENT PROCEDURES

24. The authority citation for part 209 continues to read as follows:

Authority: 49 U.S.C. 5123, 5124, 20103, 20107, 20111, 20112, 20114; 28 U.S.C. 2461 note; and 49 CFR 1.89.

25. Amend § 209.103 by revising paragraphs (a) and (c) to read as follows:

§ 209.103 Minimum and maximum penalties.

(a) A person who knowingly violates a requirement of the Federal hazardous materials transportation laws, an order issued thereunder, 49 CFR subchapter A or C of chapter I, subtitle B, or a special permit or approval issued under subchapter A or C of chapter I, subtitle B, of this title is liable for a civil penalty of not more than $99,756 for each violation, except that—

(1) The maximum civil penalty for a violation is $232,762 if the violation results in death, serious illness, or severe injury to any person, or substantial destruction of property; and

(2) A minimum $601 civil penalty applies to a violation related to training.

* * * * *

(c) The maximum and minimum civil penalties described in paragraph (a) of this section apply to violations occurring on or after December 28, 2023.

26. Amend § 209.105 by revising the last sentence of paragraph (c) to read as follows:

§ 209.105 Notice of probable violation.

* * * * *

(c) * * * In an amended notice, FRA may change the civil penalty amount proposed to be assessed up to and including the maximum penalty amount of $99,756 for each violation, except that if the violation results in death, serious illness or severe injury to any person, or substantial destruction of property, FRA may change the penalty amount proposed to be assessed up to and including the maximum penalty amount of $232,762.

§ 209.409 [Amended]

27. Amend § 209.409 as follows:

a. Remove the dollar amount “$1,052” and add in its place “$1,086”;

b. Remove the dollar amount “$34,401” and add in its place “$35,516”; and

c. Remove the dollar amount “$137,603” and add in its place “$142,063”.

28. Amend appendix A to part 209 in the section “Penalty Schedules; Assessment of Maximum Penalties” as follows:

a. Add a sentence at the end of the sixth paragraph;

b. Revise the fourth sentence in the seventh paragraph; and

c. Revise the first sentence of the tenth paragraph.

The addition and revisions read as follows:

Appendix A to Part 209—Statement of Agency Policy Concerning Enforcement of the Federal Railroad Safety Laws

* * * * *

Penalty Schedules; Assessment of Maximum Penalties

* * * * *

* * * Effective December 28, 2023, the minimum civil monetary penalty was raised from $1,052 to $1,086, the ordinary maximum civil monetary penalty was raised from $34,401 to $35,516, and the aggravated maximum civil monetary penalty was raised from $137,603 to $142,063.

* * * For each regulation in this part or order, the schedule shows two amounts within the $1,086 to $35,516 range in separate columns, the first for ordinary violations, the second for willful violations (whether committed by railroads or individuals). * * *

* * * * *

Accordingly, under each of the schedules (ordinarily in a footnote), and regardless of the fact that a lesser amount might be shown in both columns of the schedule, FRA reserves the right to assess the statutory maximum penalty of up to $142,063 per violation where a pattern of repeated violations or a grossly negligent violation has created an imminent hazard of death or injury or has caused death or injury. * * *

* * * * *

Appendix B to Part 209 [Amended]

29. Amend appendix B to part 209 as follows:

a. Remove the dollar amount “$96,624” everywhere it appears and add in its place “$99,756”;

b. Remove the dollar amount “$225,455” everywhere it appears and add in its place “$232,762”; and

c. Remove the dollar amount “$582” and add in its place “$601” in the first paragraph.

PART 213—TRACK SAFETY STANDARDS

30. The authority citation for part 213 continues to read as follows:

Authority: 49 U.S.C. 20102-20114 and 20142; 28 U.S.C. 2461 note; and 49 CFR 1.89.

§ 213.15 [Amended]

31. Amend § 213.15 in paragraph (a) as follows:

a. Remove the dollar amount “$1,052” and add in its place “$1,086”;

b. Remove the dollar amount “$34,401” and add in its place “$35,516”; and

c. Remove the dollar amount “$137,603” and add in its place “$142,063”.

PART 214—RAILROAD WORKPLACE SAFETY

32. The authority citation for part 214 continues to read as follows:

Authority: 49 U.S.C. 20102-20103, 20107, 21301-21302, 31304; 28 U.S.C. 2461 note; and 49 CFR 1.89.

§ 214.5 [Amended]

33. Amend § 214.5 as follows:

a. Remove the dollar amount “$1,052” and add in its place “$1,086”;

b. Remove the dollar amount “$34,401” and add in its place “$35,516”; and

c. Remove the dollar amount “$137,603” and add in its place “$142,063”.

PART 215—RAILROAD FREIGHT CAR SAFETY STANDARDS

34. The authority citation for part 215 continues to read as follows:

Authority: 49 U.S.C. 20103, 20107; 28 U.S.C. 2461 note; and 49 CFR 1.89.

§ 215.7 [Amended]

35. Amend § 215.7 as follows:

a. Remove the dollar amount “$1,052” and add in its place “$1,086”;

b. Remove the dollar amount “$34,401” and add in its place “$35,516”; and

c. Remove the dollar amount “$137,603” and add in its place “$142,063”.

PART 216—SPECIAL NOTICE AND EMERGENCY ORDER PROCEDURES: RAILROAD TRACK, LOCOMOTIVE AND EQUIPMENT

36. The authority citation for part 216 continues to read as follows:

Authority: 49 U.S.C. 20102-20104, 20107, 20111, 20133, 20701-20702, 21301-21302, 21304; 28 U.S.C. 2461 note; and 49 CFR 1.89.

§ 216.7 [Amended]

37. Amend § 216.7 as follows:

a. Remove the dollar amount “$1,052” and add in its place “$1,086”;

b. Remove the dollar amount “$34,401” and add in its place “$35,516”; and

c. Remove the dollar amount “$137,603” and add in its place “$142,063”.

PART 217—RAILROAD OPERATING RULES

37. The authority citation for part 217 continues to read as follows:

Authority: 49 U.S.C. 20103, 20107; 28 U.S.C. 2461 note; and 49 CFR 1.89.

§ 217.5 [Amended]

38. Amend § 217.5 as follows:

a. Remove the dollar amount “$1,052” and add in its place “$1,086”;

b. Remove the dollar amount “$34,401” and add in its place “$35,516”; and

c. Remove the dollar amount “$137,603” and add in its place “$142,063”.

PART 218—RAILROAD OPERATING PRACTICES

39. The authority citation for part 218 continues to read as follows:

Authority: 49 U.S.C. 20103, 20107, 20131, 20138, 20144, 20168; 28 U.S.C. 2461 note; and 49 CFR 1.89.

§ 218.9 [Amended]

40. Amend § 218.9 as follows:

a. Remove the dollar amount “$1,052” and add in its place “$1,086”;

b. Remove the dollar amount “$34,401” and add in its place “$35,516”; and

c. Remove the dollar amount “$137,603” and add in its place “$142,063”.

PART 219—CONTROL OF ALCOHOL AND DRUG USE

41. The authority citation for part 219 continues to read as follows:

Authority: 49 U.S.C. 20103, 20107, 20140, 21301, 21304, 21311; 28 U.S.C. 2461 note; Div. A, Sec. 412, Pub. L. 110-432, 122 Stat. 4889 (49 U.S.C. 20140 note); Sec. 8102, Pub. L. 115-271, 132 Stat. 3894; and 49 CFR 1.89.

§ 219.10 [Amended]

42. Amend § 219.10 as follows:

a. Remove the dollar amount “$1,052” and add in its place “$1,086”;

b. Remove the dollar amount “$34,401” and add in its place “$35,516”; and

c. Remove the dollar amount “$137,603” and add in its place “$142,063”.

PART 220—RAILROAD COMMUNICATIONS

43. The authority citation for part 220 continues to read as follows:

Authority: 49 U.S.C. 20102-20103, 20103, note, 20107, 21301-21302, 20701-20703, 21304, 21311; 28 U.S.C. 2461 note; and 49 CFR 1.89.

§ 220.7 [Amended]

44. Amend § 220.7 as follows:

a. Remove the dollar amount “$1,052” and add in its place “$1,086”;

b. Remove the dollar amount “$34,401” and add in its place “$35,516”; and

c. Remove the dollar amount “$137,603” and add in its place “$142,063”.

PART 221—REAR END MARKING DEVICE—PASSENGER, COMMUTER AND FREIGHT TRAINS

45. The authority citation for part 221 continues to read as follows:

Authority: 49 U.S.C. 20103, 20107; 28 U.S.C. 2461 note; and 49 CFR 1.89.

§ 221.7 [Amended]

46. Amend § 221.7 as follows:

a. Remove the dollar amount “$1,052” and add in its place “$1,086”;

b. Remove the dollar amount “$34,401” and add in its place “$35,516”; and

c. Remove the dollar amount “$137,603” and add in its place “$142,063”.

PART 222—USE OF LOCOMOTIVE HORNS AT PUBLIC HIGHWAY-RAIL GRADE CROSSINGS

47. The authority citation for part 222 continues to read as follows:

Authority: 49 U.S.C. 20103, 20107, 20153, 21301, 21304; 28 U.S.C. 2461 note; and 49 CFR 1.89.

§ 222.11 [Amended]

48. Amend § 222.11 as follows:

a. Remove the dollar amount “$1,052” and add in its place “$1,086”;

b. Remove the dollar amount “$34,401” and add in its place “$35,516”; and

c. Remove the dollar amount “$137,603” and add in its place “$142,063”.

PART 223—SAFETY GLAZING STANDARDS—LOCOMOTIVES, PASSENGER CARS AND CABOOSES

49. The authority citation for part 223 continues to read as follows:

Authority: 49 U.S.C. 20102-20103, 20133, 20701-20702, 21301-21302, 21304; 28 U.S.C. 2461 note; and 49 CFR 1.89.

§ 223.7 [Amended]

50. Amend § 223.7 as follows:

a. Remove the dollar amount “$1,052” and add in its place “$1,086”;

b. Remove the dollar amount “$34,401” and add in its place “$35,516”; and

c. Remove the dollar amount “$137,603” and add in its place “$142,063”.

PART 224—REFLECTORIZATION OF RAIL FREIGHT ROLLING STOCK

51. The authority citation for part 224 continues to read as follows:

Authority: 49 U.S.C. 20103, 20107, 20148 and 21301; 28 U.S.C. 2461 note; and 49 CFR 1.89.

§ 224.11 [Amended]

52. Amend § 224.11 in paragraph (a) as follows:

a. Remove the dollar amount “$1,052” and add in its place “$1,086”;

b. Remove the dollar amount “$34,401” and add in its place “$35,516”; and

c. Remove the dollar amount “$137,603” and add in its place “$142,063”.

PART 225—RAILROAD ACCIDENTS/INCIDENTS: REPORTS CLASSIFICATION, AND INVESTIGATIONS

53. The authority citation for part 225 is continues to read as follows:

Authority: 49 U.S.C. 103, 322(a), 20103, 20107, 20901-20902, 21301, 21302, 21311; 28 U.S.C. 2461 note; and 49 CFR 1.89.

§ 225.29 [Amended]

54. Amend § 225.29 as follows:

a. Remove the dollar amount “$1,052” and add in its place “$1,086”;

b. Remove the dollar amount “$34,401” and add in its place “$35,516”; and

c. Remove the dollar amount “$137,603” and add in its place “$142,063”.

PART 227—OCCUPATIONAL NOISE EXPOSURE

55. The authority citation for part 227 continues to read as follows:

Authority: 49 U.S.C. 20103, 20103, note, 20701-20702; 28 U.S.C. 2461 note; and 49 CFR 1.89.

§ 227.9 [Amended]

56. Amend § 227.9 in paragraph (a) as follows:

a. Remove the dollar amount “$1,052” and add in its place “$1,086”;

b. Remove the dollar amount “$34,401” and add in its place “$35,516”; and

c. Remove the dollar amount “$137,603” and add in its place “$142,063”.

PART 228—PASSENGER TRAIN EMPLOYEE HOURS OF SERVICE; RECORDKEEPING AND REPORTING; SLEEPING QUARTERS

57. The authority citation for part 228 continues to read as follows:

Authority: 49 U.S.C. 103, 20103, 20107, 21101-21109; 49 U.S.C. 21301, 21303, 21304, 21311; 28 U.S.C. 2461 note; and 49 CFR 1.89.

§ 228.6 [Amended]

58. Amend § 228.6 in paragraph (a) as follows:

a. Remove the dollar amount “$1,052” and add in its place “$1,086”;

b. Remove the dollar amount “$34,401” and add in its place “$35,516”; and

c. Remove the dollar amount “$137,603” and add in its place “$142,063”.

59. Amend appendix A to part 228, under the heading “General Provisions,” in the “Penalty” paragraph by adding a sentence at the end of the first paragraph to read as follows:

Appendix A to Part 228—Requirements of the Hours of Service Act: Statement of Agency Policy and Interpretation

* * * * *

General Provisions

* * * * *

Penalty. * * * Effective December 28, 2023, the minimum civil monetary penalty was raised from $1,052 to $1,086, the ordinary maximum civil monetary penalty was raised from $34,401 to $35,516, and the aggravated maximum civil monetary penalty was raised from $137,603 to $142,063.

* * * * *

PART 229—RAILROAD LOCOMOTIVE SAFETY STANDARDS

60. The authority citation for part 229 continues to read as follows:

Authority: 49 U.S.C. 103, 322(a), 20103, 20107, 20901-02, 21301, 21302, 21311; 28 U.S.C. 2461 note; and 49 CFR 1.89.

§ 229.7 [Amended]

61. Amend § 229.7 in paragraph (b) as follows:

a. Remove the dollar amount “$1,052” and add in its place “$1,086”;

b. Remove the dollar amount “$34,401” and add in its place “$35,516”; and

c. Remove the dollar amount “$137,603” and add in its place “$142,063”.

PART 230—STEAM LOCOMOTIVE INSPECTION AND MAINTENANCE STANDARDS

62. The authority citation for part 230 continues to read as follows:

Authority: 49 U.S.C. 20103, 20107, 20702; 28 U.S.C. 2461 note; and 49 CFR 1.89.

§ 230.4 [Amended]

63. Amend § 230.4 in paragraph (a) as follows:

a. Remove the dollar amount “$1,052” and add in its place “$1,086”;

b. Remove the dollar amount “$34,401” and add in its place “$35,516”; and

c. Remove the dollar amount “$137,603” and add in its place “$142,063”.

PART 231—RAILROAD SAFETY APPLIANCE STANDARDS

64. The authority citation for part 231 continues to read as follows:

Authority: 49 U.S.C. 20102-20103, 20107, 20131, 20301-20303, 21301-21302, 21304; 28 U.S.C. 2461 note; and 49 CFR 1.89.

§ 231.0 [Amended]

65. Amend § 231.0 in paragraph (f) as follows:

a. Remove the dollar amount “$1,052” and add in its place “$1,086”;

b. Remove the dollar amount “$34,401” and add in its place “$35,516”; and

c. Remove the dollar amount “$137,603” and add in its place “$142,063”.

PART 233—SIGNAL SYSTEMS REPORTING REQUIREMENTS

66. The authority citation for part 233 continues to read as follows:

Authority: 49 U.S.C. 504, 522, 20103, 20107, 20501-20505, 21301, 21302, 21311; 28 U.S.C. 2461 note; and 49 CFR 1.89.

§ 233.11 [Amended]

67. Amend § 233.11 as follows:

a. Remove the dollar amount “$1,052” and add in its place “$1,086”;

b. Remove the dollar amount “$34,401” and add in its place “$35,516”; and

c. Remove the dollar amount “$137,603” and add in its place “$142,063”.

PART 234—GRADE CROSSING SAFETY

68. The authority citation for part 234 continues to read as follows:

Authority: 49 U.S.C. 20103, 20107, 20152, 20160, 21301, 21304, 21311, 22907 note; 28 U.S.C. 2461 note; and 49 CFR 1.89.

§ 234.6 [Amended]

69. Amend § 234.6 in paragraph (a) as follows:

a. Remove the dollar amount “$1,052” and add in its place “$1,086”;

b. Remove the dollar amount “$34,401” and add in its place “$35,516”; and

c. Remove the dollar amount “$137,603” and add in its place “$142,063”.

PART 235—INSTRUCTIONS GOVERNING APPLICATIONS FOR APPROVAL OF A DISCONTINUANCE OR MATERIAL MODIFICATION OF A SIGNAL SYSTEM OR RELIEF FROM THE REQUIREMENTS OF PART 236

70. The authority citation for part 235 continues to read as follows:

Authority: 49 U.S.C. 20103, 20107; 28 U.S.C. 2461 note; and 49 CFR 1.89.

§ 235.9 [Amended]

71. Amend § 235.9 as follows:

a. Remove the dollar amount “$1,052” and add in its place “$1,086”;

b. Remove the dollar amount “$34,401” and add in its place “$35,516”; and

c. Remove the dollar amount “$137,603” and add in its place “$142,063”.

PART 236—RULES, STANDARDS, AND INSTRUCTIONS GOVERNING THE INSTALLATION, INSPECTION, MAINTENANCE, AND REPAIR OF SIGNAL AND TRAIN CONTROL SYSTEMS, DEVICES, AND APPLIANCES

72. The authority citation for part 236 continues to read as follows:

Authority: 49 U.S.C. 20102-20103, 20107, 20133, 20141, 20157, 20301-20303, 20306, 20501-20505, 20701-20703, 21301-21302, 21304; 28 U.S.C. 2461 note; and 49 CFR 1.89.

§ 236.0 [Amended]

73. Amend § 236.0 in paragraph (f) as follows:

a. Remove the dollar amount “$1,052” and add in its place “$1,086”;

b. Remove the dollar amount “$34,401” and add in its place “$35,516”; and

c. Remove the dollar amount “$137,603” and add in its place “$142,063”.

PART 237—BRIDGE SAFETY STANDARDS

74. The authority citation for part 237 continues to read as follows:

Authority: 49 U.S.C. 20102-20114; 28 U.S.C. 2461 note; Div. A, Sec. 417, Pub. L. 110-432, 122 Stat. 4848; and 49 CFR 1.89.

§ 237.7 [Amended]

75. Amend § 237.7 in paragraph (a) as follows:

a. Remove the dollar amount “$1,052” and add in its place “$1,086”;

b. Remove the dollar amount “$34,401” and add in its place “$35,516”; and

c. Remove the dollar amount “$137,603” and add in its place “$142,063”.

PART 238—PASSENGER EQUIPMENT SAFETY STANDARDS

76. The authority citation for part 238 continues to read as follows:

Authority: 49 U.S.C. 20103, 20107, 20133, 20141, 20302-20303, 20306, 20701-20702, 21301-21302, 21304; 28 U.S.C. 2461 note; and 49 CFR 1.89.

§ 238.11 [Amended]

77. Amend § 238.11 in paragraph (a) as follows:

a. Remove the dollar amount “$1,052” and add in its place “$1,086”;

b. Remove the dollar amount “$34,401” and add in its place “$35,516”; and

c. Remove the dollar amount “$137,603” and add in its place “$142,063”.

PART 239—PASSENGER TRAIN EMERGENCY PREPAREDNESS

78. The authority citation for part 239 continues to read as follows:

Authority: 49 U.S.C. 20102-20103, 20105-20114, 20133, 21301, 21304, and 21311; 28 U.S.C. 2461 note; and 49 CFR 1.89.

§ 239.11 [Amended]

79. Amend § 239.11 as follows:

a. Remove the dollar amount “$1,052” and add in its place “$1,086”;

b. Remove the dollar amount “$34,401” and add in its place “$35,516”; and

c. Remove the dollar amount “$137,603” and add in its place “$142,063”.

PART 240—QUALIFICATION AND CERTIFICATION OF LOCOMOTIVE ENGINEERS

80. The authority citation for part 240 continues to read as follows:

Authority: 49 U.S.C. 20103, 20107, 20135, 21301, 21304, 21311; 28 U.S.C. 2461 note; and 49 CFR 1.89.

§ 240.11 [Amended]

81. Amend § 240.11 in paragraph (a) as follows:

a. Remove the dollar amount “$1,052” and add in its place “$1,086”;

b. Remove the dollar amount “$34,401” and add in its place “$35,516”; and

c. Remove the dollar amount “$137,603” and add in its place “$142,063.

PART 241—UNITED STATES LOCATIONAL REQUIREMENT FOR DISPATCHING OF UNITED STATES RAIL OPERATIONS

82. The authority citation for part 241 continues to read as follows:

Authority: 49 U.S.C. 20103, 20107, 21301, 21304, 21311; 28 U.S.C. 2461 note; 49 CFR 1.89.

§ 241.15 [Amended]

83. Amend § 241.15 in paragraph (a) as follows:

a. Remove the dollar amount “$1,052” and add in its place “$1,086”;

b. Remove the dollar amount “$34,401” and add in its place “$35,516”; and

c. Remove the dollar amount “$137,603” and add in its place “$142,063”.

PART 242—QUALIFICATION AND CERTIFICATION OF CONDUCTORS

84. The authority citation for part 242 continues to read as follows:

Authority: 49 U.S.C. 20103, 20107, 20135, 20138, 20162, 20163, 21301, 21304, 21311; 28 U.S.C. 2461 note; and 49 CFR 1.89.

§ 242.11 [Amended]

85. Amend § 242.11 in paragraph (a) as follows:

a. Remove the dollar amount “$1,052” and add in its place “$1,086”;

b. Remove the dollar amount “$34,401” and add in its place “$35,516”; and

c. Remove the dollar amount “$137,603” and add in its place “$142,063”.

PART 243—TRAINING, QUALIFICATION, AND OVERSIGHT FOR SAFETY-RELATED RAILROAD EMPLOYEES

86. The authority citation for part 243 continues to read as follows:

Authority: 49 U.S.C. 20103, 20107, 20131-20155, 20162, 20301-20306, 20701-20702, 21301-21304, 21311; 28 U.S.C. 2461 note; and 49 CFR 1.89.

§ 243.7 [Amended]

87. Amend § 243.7 in paragraph (a) as follows:

a. Remove the dollar amount “$1,052” and add in its place “$1,086”;

b. Remove the dollar amount “$34,401” and add in its place “$35,516”; and

c. Remove the dollar amount “$137,603” and add in its place “$142,063”.

PART 244—REGULATIONS ON SAFETY INTEGRATION PLANS GOVERNING RAILROAD CONSOLIDATIONS, MERGERS, AND ACQUISITIONS OF CONTROL

88. The authority citation for part 244 continues to read as follows:

Authority: 49 U.S.C. 20103, 20107, 21301; 5 U.S.C. 553 and 559; 28 U.S.C. 2461 note; and 49 CFR 1.89.

§ 244.5 [Amended]

89. Amend § 244.5 in paragraph (a) as follows:

a. Remove the dollar amount “$1,052” and add in its place “$1,086”;

b. Remove the dollar amount “$34,401” and add in its place “$35,516”; and

c. Remove the dollar amount “$137,603” and add in its place “$142,063”.

PART 272—CRITICAL INCIDENT STRESS PLANS

90. The authority citation for part 272 continues to read as follows:

Authority: 49 U.S.C. 20103, 20107, 20109 note; 28 U.S.C. 2461 note; and 4 CFR 1.89.

§ 272.11 [Amended]

91. Amend § 272.11 in paragraph (a) as follows:

a. Remove the dollar amount “$1,052” and add in its place “$1,086”;

b. Remove the dollar amount “$34,401” and add in its place “$35,516”; and

c. Remove the dollar amount “$137,603” and add in its place “$142,063”.

PART 386—RULES OF PRACTICE FOR FMCSA PROCEEDINGS

92. The authority citation for part 386 continues to read as follows:

Authority: 28 U.S.C. 2461 note; 49 U.S.C. 113, 1301 note, 31306a; 49 U.S.C. chapters 5, 51, 131-141, 145-149, 311, 313, and 315; and 49 CFR 1.81, 1.87.

93. Amend appendix A to part 386 by revising section II and section IV.a. through e. and g. through j. to read as follows:

Appendix A to Part 386—Penalty Schedule: Violations of Notices and Orders

* * * * *

II. Subpoena

Violation—Failure to respond to Agency subpoena to appear and testify or produce records.

Penalty—minimum of $1,330 but not more than $13,300 per violation.

* * * * *

IV. Out-of-Service Order

j. Violation—Operation of a commercial vehicle by a driver during the period the driver was placed out of service.

Penalty—Up to $2,304 per violation.

(For purposes of this violation, the term “driver” means an operator of a commercial motor vehicle, including an independent contractor who, while in the course of operating a commercial motor vehicle, is employed or used by another person.)

b. Violation—Requiring or permitting a driver to operate a commercial vehicle during the period the driver was placed out of service.

Penalty—Up to $23,048 per violation.

(This violation applies to motor carriers including an independent contractor who is not a “driver,” as defined under paragraph IV(a) above.)

c. Violation—Operation of a commercial motor vehicle or intermodal equipment by a driver after the vehicle or intermodal equipment was placed out-of-service and before the required repairs are made.

Penalty—$2,304 each time the vehicle or intermodal equipment is so operated. (This violation applies to drivers as defined in IV(a) above.)

d. Violation—Requiring or permitting the operation of a commercial motor vehicle or intermodal equipment placed out-of-service before the required repairs are made.

Penalty—Up to $23,048 each time the vehicle or intermodal equipment is so operated after notice of the defect is received.

(This violation applies to intermodal equipment providers and motor carriers, including an independent owner operator who is not a “driver,” as defined in IV(a) above.)

e. Violation—Failure to return written certification of correction as required by the out- of-service order.

Penalty—Up to $1,152 per violation.

* * * * *

g. Violation—Operating in violation of an order issued under § 386.72(b) to cease all or part of the employer's commercial motor vehicle operations or to cease part of an intermodal equipment provider's operations, i.e., failure to cease operations as ordered.

Penalty—Up to $33,252 per day the operation continues after the effective date and time of the order to cease.

h. Violation—Operating in violation of an order issued under § 386.73.

Penalty—Up to $29,221 per day the operation continues after the effective date and time of the out-of-service order.

j. Violation—Conducting operations during a period of suspension under § 386.83 or § 386.84 for failure to pay penalties.

Penalty—Up to $18,758 for each day that operations are conducted during the suspension or revocation period.

j. Violation—Conducting operations during a period of suspension or revocation under § 385.911, § 385.913, § 385.1009, or § 385.1011 of this subchapter.

Penalty—Up to $29,221 for each day that operations are conducted during the suspension or revocation period.

94. Amend appendix B to part 386 by revising paragraphs (a)(1) through (5), (b), (d) through (f), (g)(1) through (8), (10) through (14), and (16) through (18), (g)(21)(i), (g)(22) and (23), (h), and (i) to read as follows:

Appendix B to Part 386—Penalty Schedule: Violations and Monetary Penalties

* * * * *

What are the types of violations and maximum monetary penalties?

(a) * * *

(1) Recordkeeping. A person or entity that fails to prepare or maintain a record required by part 40 of this title and parts 382, subpart A, B, C, D, E, or F, 385, and 390 through 399 of this subchapter, or prepares or maintains a required record that is incomplete, inaccurate, or false, is subject to a maximum civil penalty of $1,544 for each day the violation continues, up to $15,445.

(2) Knowing falsification of records. A person or entity that knowingly falsifies, destroys, mutilates, or changes a report or record required by parts 382, subpart A, B, C, D, E, or F, 385, and 390 through 399 of this subchapter, knowingly makes or causes to be made a false or incomplete record about an operation or business fact or transaction, or knowingly makes, prepares, or preserves a record in violation of a regulation order of the Secretary is subject to a maximum civil penalty of $15,445 if such action misrepresents a fact that constitutes a violation other than a reporting or recordkeeping violation.

(3) Non-recordkeeping violations. A person or entity that violates part 382, subpart A, B, C, D, E, or F, part 385, or parts 390 through 399 of this subchapter, except a recordkeeping requirement, is subject to a civil penalty not to exceed $18,758 for each violation.

(4) Non-recordkeeping violations by drivers. A driver who violates parts 382, subpart A, B, C, D, E, or F, 385, and 390 through 399 of this subchapter, except a recordkeeping violation, is subject to a civil penalty not to exceed $4,690.

(5) Violation of 49 CFR 392.5. A driver placed out of service for 24 hours for violating the alcohol prohibitions of 49 CFR 392.5(a) or (b) who drives during that period is subject to a civil penalty not to exceed $3,861 for a first conviction and not less than $7,723 for a second or subsequent conviction.

* * * * *

(b) Commercial driver's license (CDL) violations. Any employer, employee, medical review officer, or service agent who violates any provision of 49 CFR part 382, subpart G, or any person who violates 49 CFR part 383, subpart B, C, E, F, G, or H, is subject to a civil penalty not to exceed $6,974; except:

(1) A CDL-holder who is convicted of violating an out-of-service order shall be subject to a civil penalty of not less than $3,861 for a first conviction and not less than $7,723 for a second or subsequent conviction;

(2) An employer of a CDL-holder who knowingly allows, requires, permits, or authorizes an employee to operate a CMV during any period in which the CDL-holder is subject to an out-of-service order, is subject to a civil penalty of not less than $6,974 or more than $38,612; and

(3) An employer of a CDL-holder who knowingly allows, requires, permits, or authorizes that CDL-holder to operate a CMV in violation of a Federal, State, or local law or regulation pertaining to railroad-highway grade crossings is subject to a civil penalty of not more than $20,017.

* * * * *

(d) Financial responsibility violations. A motor carrier that fails to maintain the levels of financial responsibility prescribed by part 387 of this subchapter or any person (except an employee who acts without knowledge) who knowingly violates the rules of part 387, subparts A and B, is subject to a maximum penalty of $20,579. Each day of a continuing violation constitutes a separate offense.

(e) Violations of the Hazardous Materials Regulations (HMRs) and safety permitting regulations found in subpart E of part 385 of this subchapter. This paragraph (e) applies to violations by motor carriers, drivers, shippers and other persons who transport hazardous materials on the highway in commercial motor vehicles or cause hazardous materials to be so transported.

(1) All knowing violations of 49 U.S.C. chapter 51 or orders or regulations issued under the authority of that chapter applicable to the transportation or shipment of hazardous materials by commercial motor vehicle on the highways are subject to a civil penalty of not more than $99,756 for each violation. Each day of a continuing violation constitutes a separate offense.

(2) All knowing violations of 49 U.S.C. chapter 51 or orders or regulations issued under the authority of that chapter applicable to training related to the transportation or shipment of hazardous materials by commercial motor vehicle on the highways are subject to a civil penalty of not less than $601 and not more than $99,756 for each violation.

(3) All knowing violations of 49 U.S.C. chapter 51 or orders, regulations, or exemptions under the authority of that chapter applicable to the manufacture, fabrication, marking, maintenance, reconditioning, repair, or testing of a packaging or container that is represented, marked, certified, or sold as being qualified for use in the transportation or shipment of hazardous materials by commercial motor vehicle on the highways are subject to a civil penalty of not more than $99,756 for each violation.

(4) Whenever regulations issued under the authority of 49 U.S.C. chapter 51 require compliance with the FMCSRs while transporting hazardous materials, any violations of the FMCSRs will be considered a violation of the HMRs and subject to a civil penalty of not more than $99,756.

(5) If any violation subject to the civil penalties set out in paragraphs (e)(1) through (4) of this appendix results in death, serious illness, or severe injury to any person or in substantial destruction of property, the civil penalty may be increased to not more than $232,762 for each offense.

(f) Operating after being declared unfit by assignment of a final “unsatisfactory” safety rating. (1) A motor carrier operating a commercial motor vehicle in interstate commerce (except owners or operators of commercial motor vehicles designed or used to transport hazardous materials for which placarding of a motor vehicle is required under regulations prescribed under 49 U.S.C. chapter 51) is subject, after being placed out of service because of receiving a final “unsatisfactory” safety rating, to a civil penalty of not more than $33,252 (49 CFR 385.13). Each day the transportation continues in violation of a final “unsatisfactory” safety rating constitutes a separate offense.

(2) A motor carrier operating a commercial motor vehicle designed or used to transport hazardous materials for which placarding of a motor vehicle is required under regulations prescribed under 49 U.S.C. chapter 51 is subject, after being placed out of service because of receiving a final “unsatisfactory” safety rating, to a civil penalty of not more than $99,756 for each offense. If the violation results in death, serious illness, or severe injury to any person or in substantial destruction of property, the civil penalty may be increased to not more than $232,762 for each offense. Each day the transportation continues in violation of a final “unsatisfactory” safety rating constitutes a separate offense.

(g) * * *

(1) A person who operates as a motor carrier for the transportation of property in violation of the registration requirements of 49 U.S.C. 13901 is liable for a minimum penalty of $13,300 per violation.

(2) A person who knowingly operates as a broker in violation of registration requirements of 49 U.S.C 13904 or financial security requirements of 49 U.S.C 13906 is liable for a penalty not to exceed $13,300 for each violation.

(3) A person who operates as a motor carrier of passengers in violation of the registration requirements of 49 U.S.C. 13901 is liable for a minimum penalty of $33,252 per violation.

(4) A person who operates as a foreign motor carrier or foreign motor private carrier of property in violation of the provisions of 49 U.S.C. 13902(c) is liable for a minimum penalty of $13,300 per violation.

(5) A person who operates as a foreign motor carrier or foreign motor private carrier without authority, outside the boundaries of a commercial zone along the United States- Mexico border, is liable for a maximum penalty of $18,291 for an intentional violation and a maximum penalty of $45,730 for a pattern of intentional violations.

(6) A person who operates as a motor carrier or broker for the transportation of hazardous wastes in violation of the registration provisions of 49 U.S.C. 13901 is liable for a minimum penalty of $26,602 and a maximum penalty of $53,203 per violation.

(7) A motor carrier or freight forwarder of household goods, or their receiver or trustee, that does not comply with any regulation relating to the protection of individual shippers, is liable for a minimum penalty of $2,000 per violation.

(8) A person as described under paragraph (i) or (ii) is liable for a minimum penalty of $4,005 for the first violation and $10,009 for each subsequent violation—

(i) Who falsifies, or authorizes an agent or other person to falsify, documents used in the transportation of household goods by motor carrier or freight forwarder to evidence the weight of a shipment; or

(ii) Who charges for services which are not performed or are not reasonably necessary in the safe and adequate movement of the shipment.

* * * * *

(10) A person who offers, gives, solicits, or receives transportation of property by a carrier at a different rate than the rate in effect under 49 U.S.C. 13702 is liable for a maximum penalty of $200,174 per violation. When acting in the scope of his/her employment, the acts or omissions of a person acting for or employed by a carrier or shipper are considered the acts or omissions of that carrier or shipper, as well as of that person.

(11) Any person who offers, gives, solicits, or receives a rebate or concession related to motor carrier transportation subject to jurisdiction under subchapter I of 49 U.S.C. chapter 135, or who assists or permits another person to get that transportation at less than the rate in effect under 49 U.S.C. 13702, commits a violation for which the penalty is $400 for the first violation and $500 for each subsequent violation.

(12) A freight forwarder, its officer, agent, or employee, that assists or willingly permits a person to get service under 49 U.S.C. 13531 at less than the rate in effect under 49 U.S.C. 13702 commits a violation for which the penalty is up to $1,002 for the first violation and up to $4,005 for each subsequent violation.

(13) A person who gets or attempts to get service from a freight forwarder under 49 U.S.C. 13531 at less than the rate in effect under 49 U.S.C. 13702 commits a violation for which the penalty is up to $1,002 for the first violation and up to $4,005 for each subsequent violation.

(14) A person who knowingly authorizes, consents to, or permits a violation of 49 U.S.C. 14103 relating to loading and unloading motor vehicles or who knowingly violates subsection (a) of 49 U.S.C. 14103 is liable for a penalty of not more than $20,017 per violation.

* * * * *

(16) A person required to make a report to the Secretary, answer a question, or make, prepare, or preserve a record under part B of subtitle IV, title 49, U.S.C., or an officer, agent, or employee of that person, is liable for a minimum penalty of $1,330 and for a maximum penalty of $10,009 per violation if it does not make the report, does not completely and truthfully answer the question within 30 days from the date the Secretary requires the answer, does not make or preserve the record in the form and manner prescribed, falsifies, destroys, or changes the report or record, files a false report or record, makes a false or incomplete entry in the record about a business-related fact, or prepares or preserves a record in violation of a regulation or order of the Secretary.

(17) A motor carrier, water carrier, freight forwarder, or broker, or their officer, receiver, trustee, lessee, employee, or other person authorized to receive information from them, who discloses information identified in 49 U.S.C. 14908 without the permission of the shipper or consignee is liable for a maximum penalty of $4,005.

(18) A person who violates a provision of part B, subtitle IV, title 49, U.S.C., or a regulation or order under part B, or who violates a condition of registration related to transportation that is subject to jurisdiction under subchapter I or III of chapter 135, or who violates a condition of registration of a foreign motor carrier or foreign motor private carrier under section 13902, is liable for a penalty of $1,002 for each violation if another penalty is not provided in 49 U.S.C. chapter 149.

* * * * *

(21) * * *

(i) Who knowingly and willfully fails, in violation of a contract, to deliver to, or unload at, the destination of a shipment of household goods in interstate commerce for which charges have been estimated by the motor carrier transporting such goods, and for which the shipper has tendered a payment in accordance with part 375, subpart G, of this subchapter, is liable for a civil penalty of not less than $20,017 for each violation. Each day of a continuing violation constitutes a separate offense.

* * * * *

(22) A broker for transportation of household goods who makes an estimate of the cost of transporting any such goods before entering into an agreement with a motor carrier to provide transportation of household goods subject to FMCSA jurisdiction is liable to the United States for a civil penalty of not less than $15,445 for each violation.

(23) A person who provides transportation of household goods subject to jurisdiction under 49 U.S.C. chapter 135, subchapter I, or provides broker services for such transportation, without being registered under 49 U.S.C. chapter 139 to provide such transportation or services as a motor carrier or broker, as the case may be, is liable to the United States for a civil penalty of not less than $38,612 for each violation.

(h) Copying of records and access to equipment, lands, and buildings. A person subject to 49 U.S.C. chapter 51 or a motor carrier, broker, freight forwarder, or owner or operator of a commercial motor vehicle subject to part B of subtitle VI of title 49 U.S.C. who fails to allow promptly, upon demand in person or in writing, the Federal Motor Carrier Safety Administration, an employee designated by the Federal Motor Carrier Safety Administration, or an employee of a MCSAP grant recipient to inspect and copy any record or inspect and examine equipment, lands, buildings, and other property, in accordance with 49 U.S.C. 504(c), 5121(c), and 14122(b), is subject to a civil penalty of not more than $1,544 for each offense. Each day of a continuing violation constitutes a separate offense, except that the total of all civil penalties against any violator for all offenses related to a single violation shall not exceed $15,445.

(i) Evasion. A person, or an officer, employee, or agent of that person:

(1) Who by any means tries to evade regulation of motor carriers under title 49, United States Code, chapter 5, chapter 51, subchapter III of chapter 311 (except sections 31138 and 31139) or section 31302, 31303, 31304, 31305(b), 31310(g)(1)(A), or 31502, or a regulation in subtitle B, chapter I, subchapter C of this title, or this subchapter, issued under any of those provisions, shall be fined at least $2,661 but not more than $6,650 for the first violation and at least $3,323 but not more than $9,965 for a subsequent violation.

(2) Who tries to evade regulation under part B of subtitle IV, title 49, U.S.C., for carriers or brokers is liable for a penalty of at least $2,661 for the first violation or at least $6,650 for a subsequent violation.

PART 578—CIVIL AND CRIMINAL PENALTIES

95. The authority citation for part 578 continues to read as follows:

Authority: Pub. L. 92-513, Pub. L. 94-163, Pub. L. 98-547, Pub. L. 101-410, Pub. L. 102-388, Pub. L. 102-519, Pub. L. 104-134, Pub. L. 109-59, Pub. L. 110-140, Pub. L. 112-141, Pub. L. 114-74, Pub. L. 114-94 (49 U.S.C. 30165, 30170, 30505, 32308, 32309, 32507, 32709, 32710, 32902, 32912, 33114, and 33115); delegation of authority at 49 CFR 1.81, 1.95.

96. Amend § 578.6 by revising paragraphs (a)(1), (a)(2)(i)(B), (a)(3) and (4), (b) through (g), (h)(1), (h)(2) introductory text, (h)(3), and (i) to read as follows:

§ 578.6 Civil penalties for violations of specified provisions of Title 49 of the United States Code.

(a) * * *

(1) In general. A person who violates any of sections 30112, 30115, 30117 through 30122, 30123(a), 30125(c), 30127, or 30141 through 30147 of Title 49 of the United States Code or a regulation in this chapter prescribed under any of those sections is liable to the United States Government for a civil penalty of not more than $27,168 for each violation. A separate violation occurs for each motor vehicle or item of motor vehicle equipment and for each failure or refusal to allow or perform an act required by any of those sections. The maximum civil penalty under this paragraph (a)(1) for a related series of violations is $135,828,178.

(2) * * *

(i) * * *

(B) Violates section 30112(a)(2) of Title 49 United States Code, shall be subject to a civil penalty of not more than $15,445 for each violation. A separate violation occurs for each motor vehicle or item of motor vehicle equipment and for each failure or refusal to allow or perform an act required by this section. The maximum penalty under this paragraph (a)(2)(i)(B) for a related series of violations is $23,167,823.

(3) Section 30166. A person who violates Section 30166 of Title 49 of the United States Code or a regulation in this chapter prescribed under that section is liable to the United States Government for a civil penalty for failing or refusing to allow or perform an act required under that section or regulation. The maximum penalty under this paragraph (a)(3) is $27,168 per violation per day. The maximum penalty under this paragraph (a)(3) for a related series of daily violations is $135,828,178.

(4) False and misleading reports. A person who knowingly and willfully submits materially false or misleading information to the Secretary, after certifying the same information as accurate under the certification process established pursuant to Section 30166(o) of Title 49 of the United States Code, shall be subject to a civil penalty of not more than $6,650 per day. The maximum penalty under this paragraph (a)(4) for a related series of daily violations is $1,330,069.

(b) National Automobile Title Information System. An individual or entity violating 49 U.S.C. Chapter 305 is liable to the United States Government for a civil penalty of not more than $2,168 for each violation.

(c) Bumper standards. (1) A person that violates 49 U.S.C. 32506(a) is liable to the United States Government for a civil penalty of not more than $3,558 for each violation. A separate violation occurs for each passenger motor vehicle or item of passenger motor vehicle equipment involved in a violation of 49 U.S.C. 32506(a)(1) or (4)—

(i) That does not comply with a standard prescribed under 49 U.S.C. 32502; or

(ii) For which a certificate is not provided, or for which a false or misleading certificate is provided, under 49 U.S.C. 32504.

(2) The maximum civil penalty under this paragraph (c) for a related series of violations is $3,961,763.

(d) Consumer information—(1) Crash-worthiness and damage susceptibility. A person who violates 49 U.S.C. 32308(a), regarding crashworthiness and damage susceptibility, is liable to the United States Government for a civil penalty of not more than $3,558 for each violation. Each failure to provide information or comply with a regulation in violation of 49 U.S.C. 32308(a) is a separate violation. The maximum penalty under this paragraph (d)(1) for a related series of violations is $1,940,403.

(2) Consumer tire information. Any person who fails to comply with the national tire fuel efficiency program under 49 U.S.C. 32304A is liable to the United States Government for a civil penalty of not more than $73,628 for each violation.

(e) Country of origin content labeling. A manufacturer of a passenger motor vehicle distributed in commerce for sale in the United States that willfully fails to attach the label required under 49 U.S.C. 32304 to a new passenger motor vehicle that the manufacturer manufactures or imports, or a dealer that fails to maintain that label as required under 49 U.S.C. 32304, is liable to the United States Government for a civil penalty of not more than $2,168 for each violation. Each failure to attach or maintain that label for each vehicle is a separate violation.

(f) Odometer tampering and disclosure. (1) A person that violates 49 U.S.C. Chapter 327 or a regulation in this chapter prescribed or order issued thereunder is liable to the United States Government for a civil penalty of not more than $13,300 for each violation. A separate violation occurs for each motor vehicle or device involved in the violation. The maximum civil penalty under this paragraph (f)(1) for a related series of violations is $1,330,069.

(2) A person that violates 49 U.S.C. Chapter 327 or a regulation in this chapter prescribed or order issued thereunder, with intent to defraud, is liable for three times the actual damages or $13,300, whichever is greater.

(g) Vehicle theft protection. (1) A person that violates 49 U.S.C. 33114(a)(1)-(4) is liable to the United States Government for a civil penalty of not more than $2,922 for each violation. The failure of more than one part of a single motor vehicle to conform to an applicable standard under 49 U.S.C. 33102 or 33103 is only a single violation. The maximum penalty under this paragraph (g)(1) for a related series of violations is $730,455.

(2) A person that violates 49 U.S.C. 33114(a)(5) is liable to the United States Government for a civil penalty of not more than $216,972 a day for each violation.

(h) Automobile fuel economy. (1) A person that violates 49 U.S.C. 32911(a) is liable to the United States Government for a civil penalty of not more than $51,139 for each violation. A separate violation occurs for each day the violation continues.

(2) Except as provided in 49 U.S.C. 32912(c), a manufacturer that violates a standard prescribed for a model year under 49 U.S.C. 32902 is liable to the United States Government for a civil penalty of $17 (for model years before model year 2019, the civil penalty is $5.50; for model years 2019 through 2021, the civil penalty is $14; for model year 2022, the civil penalty is $15; for model year 2023, the civil penalty is $16), multiplied by each .1 of a mile a gallon by which the applicable average fuel economy standard under that section exceeds the average fuel economy—

* * * * *

(3) If a higher amount for each .1 of a mile a gallon to be used in calculating a civil penalty under paragraph (h)(2) of this section is prescribed pursuant to the process provided in 49 U.S.C. 32912(c), the amount prescribed may not be more than $32 for each .1 of a mile a gallon.

(i) Medium- and heavy-duty vehicle fuel efficiency. The maximum civil penalty for a violation of the fuel consumption standards of 49 CFR part 535 is not more than $50,360 per vehicle or engine. The maximum civil penalty for a related series of violations shall be determined by multiplying $50,360 times the vehicle or engine production volume for the model year in question within the regulatory averaging set.

Signed in Washington, DC, on December 15, 2023.
Peter Paul Montgomery Buttigieg,
Secretary of Transportation.

[FR Doc. 2023-28066 Filed 12-27-23; 8:45 am]

BILLING CODE 4910-57-P